DEPARTMENT OF THE INTERIOR

Bureau of Indian Affairs

[223A2100DD/AAKC001030/A0A501010.999900]

Indian Child Welfare Act; Designated Tribal Agents for Service of Notice

AGENCY: Bureau of Indians Affairs, Interior.

ACTION: Notice.

SUMMARY: The regulations implementing the Indian Child Welfare Act provide that Federally recognized Indian Tribes may designate an agent other than the Tribal Chairman for service of notice of proceedings under the Act. This notice includes the current list of designated Tribal agents for service of notice.

FOR FURTHER INFORMATION CONTACT: Bureau of Indian Affairs, Evangeline M. Campbell, Chief, Division of Human Services, Office of Indian Services, 1849 C Street NW, Mail Stop 3641-MIB, Washington, DC 20240; Phone: (202) 513-7621; Email: Evangeline.campbell@bia.gov.

SUPPLEMENTARY INFORMATION: The regulations implementing the Indian Child Welfare Act, 25 U.S.C. 1901 et seq., provide that Federally Recognized Tribes may designate an agent other than the Tribal Chairman for service of notice of proceedings under the Act. See 25 CFR 23.12. The Secretary of the Interior is required to update and publish in the Federal Register as necessary the names and addresses of the designated Tribal agents. This notice is published in exercise of authority delegated by the Secretary of the Interior to the Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Bureau of Indian Affairs (BIA) Regional Director (see www.bia.gov) by registered or certified mail with return receipt requested or by personal delivery. See 25 CFR 23.11. No notices are required to be sent to the Secretary's office or the BIA Central Office, except for final adoption decrees. Final adoption decrees are required to be sent to the BIA Central Office in Washington, DC.

If the identity or location of the child's parents, the child's Indian custodian, or the Federally Recognized Tribe(s) in which the Indian child is a member or eligible for membership cannot be ascertained, but there is reason to know the child is an Indian child, notice of the child-custody proceeding must be sent to the appropriate BIA Regional Director. See 25 CFR 23.111.

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

This notice presents the names and addresses of current designated Tribal agents for service of notice and includes each designated Tribal agent received by the Secretary of the Interior prior to the date of this publication. Part A, published in this notice, lists designated Tribal agents by BIA Region and alphabetically by Tribe within each of the 12 BIA Regions. Part A is also available electronically at: https://www.bia.gov/bia/ois.

In between the BIA's annual Federal Register publication, the ICWA Designated Agent List will also be available on the Indian Affairs.gov website, the link location is found at: https://www.bia.gov/bia/ois/dhs/icwa. ICWA Designated agents will be updated every three months on the website link to assist the public.

A. List of Designated Tribal Agents by BIA Region

1. Alaska Region

Alaska Regional Director, Bureau of Indian Affairs, Human Services, 3601 C Street, Ste. 1200 MC-403, Anchorage, Alaska 99503; Telephone Number: (907) 271-4111; Fax Number: (907) 271-4083.

Tribe | ICWA POC | Mailing address | Telephone No. | Fax No. | Email address
Agdaagux Tribe of King Cove | Amanda McAdoo, Family Services Coordinator | Aleutian Pribilof Islands Association Inc., 1131 East International Airport Road, Anchorage, AK 99518 | (907) 276-2700 | (907) 222-9735 | amandam@apiai.org
Akiachak Native Community | Serena Solesbee, ICWA Program Manager | Association of Village Council Presidents, P.O. Box 219, Bethel, AK 99559 | (907) 543-8691 | (907) 543-7644 | icwa2@avcp.org
Akiak Native Community | Olinka Jones, ICWA Director | P.O. Box 52127, Akiak, AK 99552 | (907) 765-7112 | (907) 765-7512 | ojones@aikiakira-nsn.gov
Alatna Village | Miriam A. Titus, Acting Tribal Social Services Manager | Tanana Chiefs Conference, 122 First Ave., Ste. 600, Fairbanks, AK 99701 | (907) 452-8251 | (907) 459-3984 | miriam.titus@tananachiefs.org
Algaaciq Native Village (St. Mary's) | Sven Paulkan, Tribal Administrator | P.O. Box 48, St. Mary's, AK 99658 | (907) 438-2932 | (907) 438-2227 | algaaciqtribe@gmail.com
Allakaket Village | Miriam A. Titus, Acting Tribal Social Services Manager | Tanana Chiefs Conference, 122 First Ave., Ste. 600, Fairbanks, AK 99701 | (907) 452-8251 | (907) 459-3984 | miriam.titus@tananachiefs.org
Alutiiq Tribe of Old Harbor (previously listed as Native Village of Old Habor) | Julie Kaiser or Amanda Holden, ICWA Case Manager/ICWA Specialist | Kodiak Area Native Association, 3449 E Rezanof Drive, Kodiak, AK 99615 | (907) 486-1395 | (907) 486-1329 | Julie.Kaiser@kodiakhealthcare.org
Angoon Community Association | Marlene Zuboff, ICWA Worker | P.O. Box 328, Angoon, AK 99820 | (907) 788-3411 | (907) 788-3412 | mzuboff.agntribe10@gmail.com
Anvik Village | Miriam A. Titus, Acting Tribal Social Services Manager | Tanana Chiefs Conference, 122 First Ave., Ste. 600, Fairbanks, AK 9970 | (907) 452-8251 | (907) 459-3984 | miriam.titus@tananachiefs.org
Arctic Village | Tonya Garnett, Tribal Administrator | P.O. Box 22069, Arctic Village, AK 99722 | (907) 587-5523 | (907) 587-5128 | avc.robertsam@gmail.com
Asa'carsarmiut Tribe | Evelyn Darlene Peterson and Madeline Long, Director of Social Services & Education I/II | P.O. Box 32107, Mountain Village, AK 99632 | (907) 591-2428 | (907) 591-2934 | atcicwa@gic.net
Beaver Village | Miriam A. Titus, Acting Tribal Social Services Manager | Tanana Chiefs Conference, 122 First Ave., Ste. 600, Fairbanks, AK 99701 | (907) 452-8251 | (907) 459-3984 | miriam.titus@tananachiefs.org
Birch Creek Tribe | Miriam A. Titus, Acting Tribal Social Services Manager | Tanana Chiefs Conference, 122 First Ave., Ste. 600, Fairbanks, AK 99701 | (907) 452-8251 | (907) 459-3984 | miriam.titus@tananachiefs.org
Central Council of the Tlingit & Haida Indian Tribes | Will Kronick, Family Services Administrator | P.O. Box 25500, Juneau, AK 99802 | (907) 463-7168 | (907) 885-0032 | wkronick@ccthita-nsn.gov
Chalkyitsik Village | Miriam A. Titus, Acting Tribal Social Services Manager | Tanana Chiefs Conference, 122 First Ave., Ste. 600, Fairbanks, AK 99701 | (907) 452-8251 | (907) 459-3984 | miriam.titus@tananachiefs.org
Cheesh-Na Tribe | Agnes Denny, Tribal Administrator | HC01 Box 217, Gakona, AK 99586 | (907) 822-3503 | (907) 822-5179 | agnesadenny@gmail.com
Chevak Native Village | Serena Solesbee, ICWA Program Manager | Association of Village Council Presidents, P.O. Box 219, Bethel, AK 99559 | (907) 543-8691 | (907) 543-7644 | icwa2@avcp.org
Chickaloon Native Village | Vera Spence, ICWA Case Manager | P.O. Box 1105, Chickaloon, AK 99674 | (907) 745-0794 | (907) 745-0750 | vmspence@chickaloon-nsn.gov
Chignik Bay Tribal Council | Children's Services Division Manager | Bristol Bay Native Association, P.O. Box 310, Dillingham, AK 99576 | (907) 842-4139 | (907) 842-4106 | BBICWA@bbna.com
Chignik Lake Village | Children's Services Division Manager | Bristol Bay Native Association, P.O. Box 310, Dillingham, AK 99576 | (907) 842-4139 | (907) 842-4106 | BBICWA@bbna.com
Chilkat Indian Village (Klukwan) | Carrie-Ann Durr, ICWA Case Worker | HC 60 Box 2207, Haines, AK 99827 | (907) 767-5505 | (907) 767-5408 | cdurr@chilkat-nsn.gov
Chilkoot Indian Association (Haines) | Will Kronick, Family Services Administrator | Central Council of the Tlingit and Haida Indian Tribes, P.O. Box 25500, Juneau, AK 99802 | (907) 463-7168 | (907) 885-0032 | wkronick@ccthita-nsn.gov
Chinik Eskimo Community (Golovin) | Heather Payenna, CFS Manager | Kawerak Inc. Children & Family Services, P.O. Box 948, Nome, AK 99762 | (907) 443-4261 | (907) 443-4601 | hpayenna@kawerak.org
Chuloonawick Native Village | Serena Solesbee, ICWA Program Manager | Association of Village Council Presidents, P.O. Box 219, Bethel, AK 99559 | (907) 543-8691 | (907) 543-7644 | SSolesbee@avcp.org
Circle Native Community | Miriam A. Titus, Acting Tribal Social Services Manager | Tanana Chiefs Conference, 122 First Ave., Ste. 600, Fairbanks, AK 99701 | (907) 452-8251 | (907) 459-3984 | miriam.titus@tananachiefs.org
Craig Tribal Association (previously listed as Craig Community Assocation) | Will Kronick, Family Services Administrator | Central Council of the Tlingit and Haida Indian Tribes, P.O. Box 25500, Juneau, AK 99802 | (907) 463-7168 | (907) 885-0032 | wkronick@ccthita-nsn.gov
Curyung Tribal Council | Children's Services Division Manager | Bristol Bay Native Association, P.O. Box 310, Dillingham, AK 99576 | (907) 842-4139 | (907) 842-4106 | BBICWA@bbna.com
Douglas Indian Association | Alyssa Cadiente-Laiti-Blattner, ICWA Social Services Program Coordinator | 811 W 12th Street, Juneau, AK 99801 | (907) 364-2916 | (907) 364-2917 | ablattner@diataku.com
Egegik Village | Children's Services Division Manager | Bristol Bay Native Association, P.O. Box 310, Dillingham, AK 99576 | (907) 842-4139 | (907) 842-4106 | BBICWA@bbna.com
Eklutna Native Village | Dawn Harris, ICWA Worker | P.O. Box 670666, Chugiak, AK 99567 | (907) 688-6020 | (907) 688-6021 | dharris@eklutna.org
Emmonak Village | Serena Solesbee, ICWA Program Manager | Association of Village Council Presidents, P.O. Box 219, Bethel, AK 99559 | (907) 543-8691 | (907) 543-7644 | icwa2@avcp.org
Evansville Village (aka Bettles Field) | Miriam A. Titus, Acting Tribal Social Services Manager | Tanana Chiefs Conference, 122 First Ave., Ste. 600, Fairbanks, AK 99701 | (907) 452-8251 | (907) 459-3984 | miriam.titus@tananachiefs.org
Galena Village (aka Louden Village) | Shay H. McEwen, Acting Tribal Administrator | P.O. Box 244, Galena, AK 99741 | (907) 656-1711 | (907) 656-2491 | shay.mcewen@loudentribe.com
Gulkana Village Council | Rachel Stratton Morse, ICWA Worker | P.O. Box 254, Gakona, AK 99586 | (907) 822-5363 |  | icwa@gulkanacouncil.org
Healy Lake Village | Miriam A. Titus, Acting Tribal Social Services Manager | Tanana Chiefs Conference, 122 First Ave., Ste. 600, Fairbanks, AK 99701 | (907) 452-8251 | (907) 459-3984 | miriam.titus@tananachiefs.org
Holy Cross Tribe (previously listed as Holy Cross Village) | Miriam A. Titus, Acting Tribal Social Services Manager | Tanana Chiefs Conference, 122 First Ave., Ste. 600, Fairbanks, AK 99701 | (907) 452-8251 | (907) 459-3984 | miriam.titus@tananachiefs.org
Hoonah Indian Association | Akasha Moulton, Human Development Division Director | P.O. Box 602, Hoonah, AK 99829 | (907) 945-3545 | (907) 945-3140 | Akasha.Moulton@hiatribe.org
Hughes Village | Miriam A. Titus, Acting Tribal Social Services Manager | Tanana Chiefs Conference, 122 First Ave., Ste. 600, Fairbanks, AK 99701 | (907) 452-8251 | (907) 459-3984 | miriam.titus@tananachiefs.org
Huslia Village | Miriam A. Titus, Acting Tribal Social Services Manager | Tanana Chiefs Conference, 122 First Ave., Ste. 600, Fairbanks, AK 99701 | (907) 452-8251 | (907) 459-3984 | miriam.titus@tananachiefs.org
Hydaburg Cooperative Association | Dorinda Sanderson, Tribal Administrator | P.O. Box 349, Hydaburg, AK 99922 | (907) 285-3666 | (907) 285-3541 | hca_administrator@hcatribe.org
Igiugig Village | Alicia Tinney, ICWA Worker | P.O. Box 4008, Igiugig, AK 99613 | (907) 533-3211 | (907) 533-3217 | alicia.s.zackar@gmail.com
Inupiat Community of the Arctic Slope | Marie H. Ahsoak, Social Services Director | P.O. Box 934, Barrow, AK 99723 | (907) 852-5923 | (907) 852-5924 | marie.ahsoak@inupiatgov.com
Iqugmiut Traditional Council | Serena Solesbee, ICWA Program Manager | Association of Village Council Presidents, P.O. Box 219, Bethel, AK 99559 | (907) 543-8691 | (907) 543-7644 | icwa2@avcp.org
Ivanof Bay Tribe (previously listed as Ivanoff Bay Tribe) | Children's Services Division Manager | Bristol Bay Native Association, P.O. Box 310, Dillingham, AK 99576 | (907) 842-4139 | (907) 842-4106 | BBICWA@bbna.com
Kaguyak Village | Alyssa Brenteson, Tribal Manager | P.O. Box 5078, Akhiok, AK 99615 | (907) 836-2231 |  | kaguyak.tribal.council@gmail.com
Kaktovik Village (aka Barter Island) | Courtney Yemiola, Social Services Director | Arctic Slope Native Association, P.O. Box 1232, Barrow, AK 99723 | (907) 852-9374 | (907) 852-2761 | Courtney.Yemiola2@arcticslope.org
Kasigluk Traditional Elders Council | Lena Keene, ICWA Worker | P.O. Box 19, Kasigluk, AK 99609 | (907) 477-6418 | (907) 477-6412 | kasigluktribalicwa@gmail.com
Kenaitze Indian Tribe | Josie Oliva, ICWA Tribal Representative | P.O. Box 988, Kenai, AK 99611 | (907) 335-7611 | (907) 202-8359 | JOliva@kenaitze.org
Ketchikan Indian Community | Douglas J. Gass, Case Management Supervisor | 201 Deermount Street, Ketchikan, AK 99901 | (907) 228-9327 | (800) 378-0469 | dgass@kictribe.org
King Island Native Community | Heather Payenna, CFS Manager | Kawerak Inc. Children & Family Services, P.O. Box 948, Nome, AK 99762 | (907) 443-4261 | (907) 443-4601 | hpayenna@kawerak.org
King Salmon Tribe | Children's Services Division Manager | Bristol Bay Native Association, P.O. Box 310, Dillingham, AK 99576 | (907) 842-4139 | (907) 842-4106 | BBICWA@bbna.com
Klawock Cooperative Association | Will Kronick, Family Services Administrator | Central Council of the Tlingit and Haida Indian Tribes, P.O. Box 25500, Juneau, AK 99802 | (907) 463-7168 | (907) 885-0032 | wkronick@ccthita-nsn.gov
Knik Tribe | Geraldine Nicoli-Ayonayon, ICWA Manager | P.O. Box 871565, Wasilla, AK 99687 | (907) 373-7938 | (907) 373-2153 | gnayonayon@kniktribe.org
Kokhanok Village | Mary Andrew, ICWA Worker | P.O. Box 1007, Kokhanok, AK 99606 | (907) 282-2224 | (907) 282-2264 | kokhanokicwa@gmail.com
Koyukuk Native Village | Miriam A. Titus, Acting Tribal Social Services Manager | Tanana Chiefs Conference, 122 First Ave., Ste. 600, Fairbanks, AK 99701 | (907) 452-8251 | (907) 459-3984 | miriam.titus@tananachiefs.org
Levelock Village | Children's Services Division Manager | Bristol Bay Native Association, P.O. Box 310, Dillingham, AK 99576 | (907) 842-4139 | (907) 842-4106 | BBICWA@bbna.com
Lime Village | Serena Solesbee, ICWA Program Manager | Association of Village Council Presidents, P.O. Box 219, Bethel, AK 99559 | (907) 543-8691 | (907) 543-7644 | icwa2@avcp.org
Manley Hot Springs Village | Miriam A. Titus, Acting Tribal Social Services Manager | Tanana Chiefs Conference, 122 First Ave., Ste. 600, Fairbanks, AK 99701 | (907) 452-8251 | (907) 459-3984 | miriam.titus@tananachiefs.org
Manokotak Village | Children's Services Division Manager | Bristol Bay Native Association, P.O. Box 310, Dillingham, AK 99576 | (907) 842-4139 | (907) 842-4106 | BBICWA@bbna.com
McGrath Native Village | Miriam A. Titus, Acting Tribal Social Services Manager | Tanana Chiefs Conference, 122 First Ave., Ste. 600, Fairbanks, AK 99701 | (907) 452-8251 | (907) 459-3984 | miriam.titus@tananachiefs.org
Mentasta Traditional Council | Shyanne McCullough, ICWA Caseworker | P.O. Box 6019, Mentasta Lake, AK 99780-6019 | (907) 291-2319 | (907) 291-2305 | mentasta.icwa@gmail.com
Metlakatla Indian Community, Annette Island Reserve | Jacqueline Wilson, Craig White, ICWA Social Worker, Social Services Director | P.O. Box 8, Metlkatla, AK 99926 | (907) 886-6914 | (907) 886-6913 | jwilson@metlakatla.com
Naknek Native Village | Linda Halverson, Tribal President | P.O. Box 210, Naknek, AK 99633 | (907) 246-4210 | (907) 246-3563 | nnvcpresident@gmail.com
Native Village of Afognak | Denise Malutin, ICWA Program Manager | 115 Mill Bay Road, Kodiak, AK 99615 | (907) 486-6357 | (907) 486-6529 | denise@afognak.org
Native Village of Akhiok | Julie Kaiser or Amanda Holden, ICWA Case Manager/ICWA Specialist | Kodiak Area Native Association, 3449 E Rezanof Drive, Kodiak, AK 99615 | (907) 486-1395 | (907) 486-1329 | Julie.kaiser@kodiakhealthcare.org
Native Village of Akutan | Amanda McAdoo, Family Services Coordinator | Aleutian Pribilof Islands Association Inc., 1131 E International Airport Road, Anchorage, AK 99518 | (907) 276-2700 | (907) 222-9735 | amandam@apiai.org
Native Village of Aleknagik | Children's Services Division Manager | Bristol Bay Native Association, P.O. Box 310, Dillingham, AK 99576 | (907) 842-4139 | (907) 842-4106 | BBICWA@bbna.com
Native Village of Ambler | Jackie Hill, Director | Maniilaq Association Family Services, P.O. Box 256, Kotzebue, AK 99752 | (907) 442-7879 | (907) 442-7885 | jackie.hill@maniilaq.org
Native Village of Atka | Amanda McAdoo, Family Services Coordinator | Aleutian Pribilof Islands Association Inc., 1131 E International Airport Road, Anchorage, AK 99518 | (907) 276-2700 | (907) 222-9735 | amandam@apiai.org
Native Village of Atqasuk (previously listed as Atqasuk Village (Atkasook) | Courtney Yemiola, Social Services Director | Arctic Slope Native Association, P.O. Box 1232, Utqiagvik, AK 99723 | (907) 852-9374 | (907) 852-2761 | Courtney.Yemiola2@arcticslope.org
Native Village of Barrow Inupiat Traditional Government | Shelley Kaleak, Social Services Director | P.O. Box 1130, Barrow, AK 99723 | (907) 947-5358 | (907) 852-8844 | Shelley.kaleak@nvb-nsn.gov
Native Village of Belkofski | Amanda McAdoo, Family Services Coordinator | Aleutian Pribilof Islands Association Inc., 1131 E International Airport Road, Anchorage, AK 99518 | (907) 276-2700 | (907) 222-9735 | amandam@apiai.org
Native Village of Brevig Mission | Heather Payenna, Children & Family Services Manager | Kawerak Inc. Children & Family Services, P.O. Box 948, Nome, AK 99762 | (907) 443-4261 | (907) 443-4601 | hpayenna@kawerak.org
Native Village of Buckland | Rebecca Hadley or Percy Ballot Sr., ICWA Coordinators | P.O. Box 67, Buckland, AK 99727 | (907) 494-2169 | (907) 494-2192 | icwa@nunachiak.org
Native Village of Cantwell | Arleen Lenard, ICWA Advocate | P.O. Box H, Copper Center, AK 99573 | (907) 822-5241 | (888) 959-2389 | alenard@crnative.org
Native Village of Chenega (aka Chanega) | Buell Russell, General Manager | 3000 C Street, Suite 200, Anchorage, AK 99503 | (907) 230-3036 | (907) 569-6939 | brussell@chenegaira.com
Native Village of Chignik Lagoon | Children's Services Division Manager | Bristol Bay Native Association, P.O. Box 310, Dillingham, AK 99576 | (907) 842-4139 | (907) 842-4106 | BBICWA@bbna.com
Native Village of Chitina | Precious Billum, Tribal Administrator | P.O. Box 31, Chitina, AK 99566 | (907) 823-2215 | (907) 823-2285 | chitima_icwa@outlook.com
Native Village of Chuathbaluk (Russian Mission, Kuskokwim) | Serena Solesbee, ICWA Program Manager | Association of Village Council Presidents, P.O. Box 219, Bethel, AK 99559 | (907) 543-8691 | (907) 543-7644 | icwa2@avcp.org
Native Village of Council | Heather Payenna, CFS Manager | Kawerak Inc. Children & Family Services, P.O. Box 948, Nome, AK 99762 | (907) 443-4261 | (907) 443-4601 | hpayenna@kawerak.org
Native Village of Deering | Pearl Moto, ICWA Coordinator | P.O. Box 36089, Deering, AK 99736 | (907) 363-2229 | (907) 363-2195 | icwa@ipnatchiaq.org
Native Village of Diomede (aka Inalik) | Heather Payenna, CFS Manager | Kawerak Inc. Children & Family Services, P.O. Box 948, Nome, AK 99762 | (907) 443-4261 | (907) 443-4601 | hpayenna@kawerak.org
Native Village of Eagle | Miriam A. Titus, Acting Tribal Social Services Manager | Tanana Chiefs Conference, 122 First Ave., Ste. 600, Fairbanks, AK 99701 | (907) 452-8251 | (907) 459-3984 | miriam.titus@tananachiefs.org
Native Village of Eek | Serena Solesbee, ICWA Program Manager | Association of Village Council Presidents, P.O. Box 219, Bethel, AK 99559 | (907) 543-8691 | (907) 543-7644 | icwa2@avcp.org
Native Village of Ekuk | Children's Services Division Manager | Bristol Bay Native Association, P.O. Box 310, Dillingham, AK 99576 | (907) 842-4139 | (907) 842-4106 | BBICWA@bbna.com
Native Village of Ekwok | Children's Services Division Manager | Bristol Bay Native Association, P.O. Box 310, Dillingham, AK 99576 | (907) 842-4139 | (907) 842-4106 | BBICWA@bbna.com
Native Village of Elim | Heather Payenna, CFS Manager | Kawerak Inc. Children & Family Services, P.O. Box 948, Nome, AK 99762 | (907) 443-4261 | (907) 443-4601 | hpayenna@kawerak.org
Native Village of Eyak (Cordova) | Linda Powell, ICWA Coordinator | P.O. Box 1388, Cordova, AK 99574 | (907) 424-2227 | (907) 424-7809 | Linda.powell@eyak-nsn.gov
Native Village of False Pass | Amanda McAdoo, Family Services Coordinator | Aleutian Pribilof Islands Association Inc., 1131 E International Airport Road, Anchorage, AK 99518 | (907) 276-2700 | (907) 222-9735 | amandam@apiai.org
Native Village of Fort Yukon | Miriam A. Titus, Acting Tribal Social Services Manager | Tanana Chiefs Conference, 122 First Ave., Ste. 600, Fairbanks, AK 99701 | (907) 452-8251 | (907) 459-3984 | miriam.titus@tananachiefs.org
Native Village of Gakona | Lisa Nicolia, ICWA Worker | P.O. Box 102, Gakona, AK 99586 | (907) 822-5777 | (907) 822-5997 | gakonaprojects@gmail.com
Native Village of Gambell | Heather Payenna, CFS Manager | Kawerak Inc. Children & Family Services, P.O. Box 948, Nome, AK 99762 | (907) 443-4261 | (907) 443-4601 | hpayenna@kawerak.org
Native Village of Georgetown | Serena Solesbee, ICWA Program Manager | Association of Village Council Presidents, P.O. Box 219, Bethel, AK 99559 | (907) 543-8691 | (907) 543-7644 | SSolesbee@avcp.org
Native Village of Goodnews Bay | Serena Solesbee, ICWA Program Manager | Association of Village Council Presidents, P.O. Box 219, Bethel, AK 99559 | (907) 543-8691 | (907) 543-7644 | icwa2@avcp.org
Native Village of Hamilton | Serena Solesbee, ICWA Program Manager | Association of Village Council Presidents, P.O. Box 219, Bethel, AK 99559 | (907) 543-8691 | (907) 543-7644 | icwa2@avcp.org
Native Village of Hooper Bay | Serena Solesbee, ICWA Program Manager | Association of Village Council Presidents, P.O. Box 219, Bethel, AK 99559 | (907) 543-8691 | (907) 543-7644 | icwa2@avcp.org
Native Village of Kanatak | Children's Services Division Manager | Bristol Bay Native Association, P.O. Box 310, Dillingham, AK 99576 | (907) 842-4139 | (907) 842-4106 | BBICWA@bbna.com
Native Village of Karluk | Kristeen Reft, ICWA Worker | P.O. Box 22, Karluk, AK 99608 | (907) 241-2238 |  | programassistant@karluktribal.org
Native Village of Kiana | Jackie Hill | Maniilaq Association Family Services, P.O. Box 256, Kotzebue, AK 99752 | (907) 442-7879 | (907) 442-7885 | jackie.hill@maniilaq.org
Native Village of Kipnuk | Serena Solesbee, ICWA Program Manager | Association of Village Council Presidents, P.O. Box 219, Bethel, AK 99559 | (907) 543-8691 | (907) 543-7644 | icwa2@avcp.org
Native Village of Kivalina | Millie Hawley, Tribal Administrator | P.O. Box 50051, Kivalina, AK 99750 | (907) 645-2153 | (907) 645-2193 | tribeadmin@kivaliniq.org
Native Village of Kluti Kaah (aka Copper Center) | Willard E. Hand, Tribal Administrator | P.O. Box 68, Copper Center, AK 99573 | (907) 822-5541 | (907) 822-5130 | nvkkgov@klutikaah.com
Native Village of Kobuk | Jackie Hill, Director | Maniilaq Association Family Services, P.O. Box 256, Kotzebue, AK 99752 | (907) 442-7879 | (907) 442-7885 | jackie.hill@maniilaq.org
Native Village of Kotzebue | Bibianna Scott, Tribal Family Services Director | P.O. Box 296, Kotzebue, AK 99752 | (907) 442-3467 |  | bibianna.scott@qira.org
Native Village of Koyuk | Heather Payenna, CFS Manager | Kawerak Inc. Children & Family Services, P.O. Box 948, Nome, AK 99762 | (907) 443-4261 | (907) 443-4601 | hpayenna@kawerak.org
Native Village of Kwigillingok | Andrew Beaver, ICWA Program Director | P.O. Box 90, Kwigillingok, AK 99622 | (907) 588-8114 | (907) 588-8429 | icwa@kwigtribe.org
Native Village of Kwinhagak (aka Quinhagak) | Serena Solesbee, ICWA Program Manager | Association of Village Council Presidents, P.O. Box 219, Bethel, AK 99559 | (907) 543-8691 | (907) 543-7644 | icwa2@avcp.org
Native Village of Larsen Bay | Julie Kaiser or Amanda Holden, ICWA Case Manager/ICWA Specialist | Kodiak Area Native Association, 3449 E Rezanof Drive, Kodiak, AK 99615 | (907) 486-1395 | (907) 486-1329 | Julie.kaiser@kodiakhealthcare.org
Native Village of Marshall (aka Fortuna Ledge) | Serena Solesbee, ICWA Program Manager | Association of Village Council Presidents, P.O. Box 219, Bethel, AK 99559 | (907) 543-8691 | (907) 543-7644 | icwa2@avcp.org
Native Village of Mary's Igloo | Heather Payenna, CFS Manager | Kawerak Inc. Children & Family Services, P.O. Box 948, Nome, AK 99762 | (907) 443-4261 | (907) 443-4601 | hpayenna@kawerak.org
Native Village of Mekoryuk | Melanie Shavings, ICWA Coordinator | P.O. Box 66, Mekoryuk, AK 99630 | (907) 827-8827 | (907) 827-8133 | melanie.s@mekoryuktc.org
Native Village of Minto | Miriam A. Titus, Acting Tribal Social Services Manager | Tanana Chiefs Conference, 122 First Ave., Ste. 600, Fairbanks, AK 99701 | (907) 452-8251 |  | miriam.titus@tananachiefs.org
Native Village of Nanwalek (aka English Bay) | Katrina Berestoff, ICWA Coordinator | P.O. Box 8028, Nanwalek, AK 99603 | (907) 281-2284 |  | kberestoff@gmail.com
Native Village of Napaimute | Serena Solesbee, ICWA Program Manager | Association of Village Council Presidents, P.O. Box 219, Bethel, AK 99559 | (907) 543-8691 | (907) 543-7644 | icwa2@avcp.org
Native Village of Napakiak | Serena Solesbee, ICWA Program Manager | Association of Village Council Presidents, P.O. Box 219, Bethel, AK 99559 | (907) 543-8691 | (907) 543-7644 | icwa2@avcp.org
Native Village of Napaskiak | Serena Solesbee, ICWA Program Manager | Association of Village Council Presidents, P.O. Box 219, Bethel, AK 99559 | (907) 543-8691 | (907) 543-7644 | icwa2@avcp.org
Native Village of Nelson Lagoon | Amanda McAdoo, Family Services Coordinator | Aleutian Pribilof Islands Association Inc., 1131 E International Airport Road, Anchorage, AK 99518 | (907) 276-2700 | (907) 222-9735 | amandam@apiai.org
Native Village of Nightmute | Serena Solesbee, ICWA Program Manager | Association of Village Council Presidents, P.O. Box 219, Bethel, AK 99559 | (907) 543-8691 | (907) 543-7644 | icwa2@avcp.org
Native Village of Nikolski | Amanda McAdoo, Family Services Coordinator | Aleutian Pribilof Islands Association Inc., 1131 E International Airport Road, Anchorage, AK 99518 | (907) 276-2700 | (907) 222-9735 | amandam@apiai.org
Native Village of Noatak | Benjamin P. Arnold, ICWA Coordinator | P.O. Box 89, Noatak, AK 99761 | (907) 485-2030 | (907) 485-2137 | icwa@nautaaq.org
Native Village of Nuiqsut (aka Nooiksut) | Courtney Yemiola, Social Services Director | Arctic Slope Native Association, P.O. Box 1232, Utqiagvik, AK 99723 | (907) 852-9374 | (907) 852-2761 | Courtney.Yemiola2@arcticslope.org
Native Village of Nunam Iqua | Serena Solesbee, ICWA Program Manager | Association of Village Council Presidents, P.O. Box 219, Bethel, AK 99559 | (907) 543-8691 | (907) 543-7644 | icwa2@avcp.org
Native Village of Nunapitchuk | Aldine Frederick, ICWA Worker | P.O. Box 104, Nunapitchuk, AK 99641 | (907) 527-5731 | (907) 527-5740 | nunap.icwa@gmail.com
Native Village of Ouzinkie | Julie Kaiser or Amanda Holden, ICWA Case Manager/ICWA Specialist | Kodiak Area Native Association, 3449 E Rezanof Drive, Kodiak, AK 99615 | (907) 486-1395 | (907) 486-1329 | Julie.Kaiser@kodiakhealthcare.org
Native Village of Paimiut | Colleen Timmer, Tribal Administrator | P.O. Box 240084, Anchorage, AK 99524 | (907) 561-0304 | (907) 561-0305 | colleent@nvptc.org
Native Village of Perryville | Children's Services Division Manager | Bristol Bay Native Association, P.O. Box 310, Dillingham, AK 99576 | (907) 842-4139 | (907) 842-4106 | BBICWA@bbna.com
Native Village of Pilot Point | Children's Services Division Manager | Bristol Bay Native Association, P.O. Box 310, Dillingham, AK 99576 | (907) 842-4139 | (907) 842-4106 | BBICWA@bbna.com
Native Village of Point Hope | Janelle Tingook, Family/ICWA Case Worker | P.O. Box 109, Point Hope, AK 99766 | (907) 368-3122 | (907) 368-2332 | family.caseworker@tikigaq.com
Native Village of Point Lay | Marie Ahsoak, Social Services Director | Inupiat Community of the Arctic Slope, P.O. Box 934, Barrow, AK 99723 | (907) 852-5923 | (907) 852-5924 | marie.ahsoak@icas-nsn.gov
Native Village of Port Graham | Patrick Norman, Chief & ICWA Worker | ICWA Program, P.O. Box 5510, Port Graham, AK 99603 | (907) 284-2227 | (907) 284-2222 | pat@portgraham.org
Native Village of Port Heiden | Amber Christensen-Fox, ICWA Worker | 2200 James Street, Port Heiden, AK 99549 | (907) 837-2296 | (907) 837-2297 | amber@portheidenalaska.com
Native Village of Port Lions | Willie Nelson, Family Services Coordinator | P.O. Box 69, Port Lions, AK 99550 | (907) 454-2234 | (907) 454-2434 | familyservices@portlionstribe.org
Native Village of Ruby | Miriam A. Titus, Acting Tribal Social Services Manager | Tanana Chiefs Conference, 122 First Ave., Ste. 600, Fairbanks, AK 99701 | (907) 452-8251 | (907) 459-3984 | miriam.titus@tananachiefs.org
Native Village of Saint Michael | Heather Payenna, CFS Manager | Kawerak Inc. Children & Family Services, P.O. Box 948, Nome, AK 99762 | (907) 443-4261 | (907) 443-4601 | hpayenna@kawerak.org
Native Village of Savoonga | Heather Payenna, CFS Manager | Kawerak Inc. Children & Family Services, P.O. Box 948, Nome, AK 99762 | (907) 443-4261 | (907) 443-4601 | hpayenna@kawerak.org
Native Village of Scammon Bay | Serena Solesbee, ICWA Program Manager | Association of Village Council Presidents, P.O. Box 219, Bethel, AK 99559 | (907) 543-8691 | (907) 543-7644 | icwa2@avcp.org
Native Village of Selawik | Jackie Hill, Director | Maniilaq Association Family Services, P.O. Box 256, Kotzebue, AK 99752 | (907) 442-7879 | (907) 442-7885 | jackie.hill@maniilaq.org
Native Village of Shaktoolik | Heather Payenna, CFS Manager | Kawerak Inc. Children & Family Services, P.O. Box 948, Nome, AK 99762 | (907) 443-4261 | (907) 443-4601 | hpayenna@kawerak.org
Native Village of Shishmaref | Heather Payenna, CFS Manager | Kawerak Inc. Children & Family Services, P.O. Box 948, Nome, AK 99762 | (907) 443-4261 | (907) 443-4601 | hpayenna@kawerak.org
Native Village of Shungnak | Jackie Hill, Director | Maniilaq Association Family Services, P.O. Box 256, Kotzebue, AK 99752 | (907) 442-7879 | (907) 442-7885 | jackie.hill@maniilaq.org
Native Village of Stevens | Miriam A. Titus, Acting Tribal Social Services Manager | Tanana Chiefs Conference, 122 First Ave., Ste. 600, Fairbanks, AK 99701 | (907) 452-8251 | (907) 459-3984 | miriam.titus@tananachiefs.org
Native Village of Tanacross | Miriam A. Titus, Acting Tribal Social Services Manager | Tanana Chiefs Conference, 122 First Ave., Ste. 600, Fairbanks, AK 99701 | (907) 452-8251 | (907) 459-3984 | miriam.titus@tananachiefs.org
Native Village of Tanana | Donna May Folger, ICWA Manager | P.O. Box 130, Tanana, AK 99777 | (907) 336-1025 | (907) 366-7246 | Tanana.TFYS@gmail.com
Native Village of Tatitlek | Gwen Vlasoff, ICWA Worker | P.O. Box 171, Tatitlek, AK 99677 | (907) 325-2311 | (907) 325-2289 | gwen.tatitlekira@gmail.com
Native Village of Tazlina | Donna Renard, ICWA Coordinator | P.O. Box 466, Glennallen, AK 99588 | (907) 822-4375 | (907) 822-5865 | Asst.tazlina@cvinternet.net
Native Village of Teller | Heather Payenna, CFS Manager | Kawerak Inc. Children & Family Services, P.O. Box 948, Nome, AK 99762 | (907) 443-4261 | (907) 443-4601 | hpayenna@kawerak.org
Native Village of Tetlin | Miriam A. Titus, Acting Tribal Social Services Manager | Tanana Chiefs Conference, 122 First Ave., Ste. 600, Fairbanks, AK 99701 | (907) 452-8251 | (907) 459-3984 | miriam.titus@tananachiefs.org
Native Village of Tuntutuliak | Serena Solesbee, ICWA Program Manager | Association of Village Council Presidents, P.O. Box 219, Bethel, AK 99559 | (907) 543-8691 | (907) 543-7644 | icwa2@avcp.org
Native Village of Tununak | Serena Solesbee, ICWA Program Manager | Association of Village Council Presidents, P.O. Box 219, Bethel, AK 99559 | (907) 543-8691 | (907) 543-7644 | icwa2@avcp.org
Native Village of Tyonek | Johann Bartels, President | P.O. Box 82009, Tyonek, AK 99682 | (907) 583-2111 | (907) 583-2219 | nvtyonekpresident@gmail.com
Native Village of Unalakleet | Christy Schuneman, ICWA Caseworker | P.O. Box 357, Unalakleet, AK 99684 | (907) 624-3622 | (907) 624-5104 | tfc.unk@unkira.org
Native Village of Unga | Amanda McAdoo, Family Services Coordinator | Aleutian Pribilof Islands Association Inc., 1131 E International Airport Road, Anchorage, AK 99518 | (907) 276-2700 | (907) 222-9735 | amandam@apiai.org
Native Village of Wales | Heather Payenna, CFS Manager | Kawerak Inc. Children & Family Services, P.O. Box 948, Nome, AK 99762 | (907) 443-4261 | (907) 443-4601 | hpayenna@kawerak.org
Native Village of White Mountain | Heather Payenna, CFS Manager | Kawerak Inc. Children & Family Services, P.O. Box 948, Nome, AK 99762 | (907) 443-4261 | (907) 443-4601 | hpayenna@kawerak.org
Nenana Native Association | Miriam A. Titus, Acting Tribal Social Services Manager | Tanana Chiefs Conference, 122 First Ave., Ste. 600, Fairbanks, AK 99701 | (907) 452-8251 | (907) 459-3984 | miriam.titus@tananachiefs.org
New Koliganek Village Council | Children's Services Division Manager | Bristol Bay Native Association, P.O. Box 310, Dillingham, AK 99576 | (907) 842-4139 | (907) 842-4106 | BBICWA@bbna.com
New Stuyahok Village | Children's Services Division Manager | Bristol Bay Native Association, P.O. Box 310, Dillingham, AK 99576 | (907) 842-4139 | (907) 842-4106 | BBICWA@bbna.com
Newhalen Village | Maxine Wassillie, ICWA Worker | P.O. Box 207, Newhalen, AK 99606 | (907) 571-1410 | (907) 571-1537 | maxinewassillie@newhalentribal.com
Newtok Village | Andrew John, Tribal Administrator | P.O. Box 5596, Newtok, AK 99559 | (907) 237-2202 | (907) 237-2210 | wwt10nnc@gmail.com
Nikolai Village | Miriam A. Titus, Acting Tribal Social Services Manager | Tanana Chiefs Conference, 122 First Ave., Ste. 600, Fairbanks, AK 99701 | (907) 452-8251 | (907) 459-3984 | miriam.titus@tananachiefs.org
Ninilchik Village | Christina Pinnow, Tribal Services Director | P.O. Box 39444, Ninilchik, AK 9963 | (907) 567-3313 | (907) 567-3354 | cpinnow@ninilchiktribe-nsn.gov
Nome Eskimo Community | Lola Tobuk, Director of Family Services | 101 W Benson Blvd., Suite 203, Anchorage, AK 99503 | (907) 339-1540 | (907) 222-2996 | lola.tobuk@necalaska.org
Nondalton Village | Tia Hobson, Social Services/ICWA Worker | P.O. Box 49, Nondalton, AK 99640 | (907) 294-2257 | (907) 294-2271 | ntcssicwa@gmail.com
Noorvik Native Community | Jackie Hill, Director | Maniilaq Association Family Services, P.O. Box 256, Kotzebue, AK 99752 | (907) 442-7879 | (907) 442-7885 | jackie.hill@maniilaq.org
Northway Village | Tasha Demit, ICWA Worker | P.O. Box 516, Northway, AK 99764 | (907) 778-2311 | (907) 778-2220 | icwa@aptalaska.net
Nulato Village | Sharon Agnes, Director of Human Services | P.O. Box 65090, Nulato, AK 99765 | (907) 898-2236 | (907) 898-2238 | Sharon.tfys@outlook.com
Nunakauyarmiut Tribe | Serena Solesbee, ICWA Program Manager | Association of Village Council Presidents, P.O. Box 219, Bethel, AK 99559 | (907) 543-8691 | (907) 543-7644 | icwa2@avcp.org
Organized Village of Grayling (aka Holikachuk) | Miriam A. Titus, Acting Tribal Social Services Manager | Tanana Chiefs Conference, 122 First Ave., Ste. 600, Fairbanks, AK 99701 | (907) 452-8251 | (907) 459-3984 | miriam.titus@tananachiefs.org
Organized Village of Kake | Nathalie Austin, Social Services Director | P.O. Box 316, Kake, AK 99830 | (907) 785-6471 | (907) 785-4902 | icwa@kake-nsn.gov
Organized Village of Kasaan | Will Kronick, Family Services Administrator | Central Council of the Tlingit and Haida Indian Tribes, P.O. Box 25500, Juneau, AK 99802 | (907) 463-7168 | (907) 885-0032 | wkronick@ccthita-nsn.gov
Organized Village of Kwethluk | Serena Solesbee, ICWA Program Manager | Association of Village Council Presidents, P.O. Box 219, Bethel, AK 99559 | (907) 543-8691 | (907) 543-7644 | SSolesbee@avcp.org
Organized Village of Saxman | Will Kronick, Family Services Administrator | Central Council of the Tlingit and Haida Indian Tribes, P.O. Box 25500, Juneau, AK 99802 | (907) 463-7168 | (907) 885-0032 | wkronick@ccthita-nsn.gov
Orutsararmiut Traditional Native Council | Deborah Michael, Social Services Director | P.O. Box 927, Bethel, AK 99559 | (907) 543-2608 | (907) 543-2639 | dmichael@nativecouncil.org
Oscarville Traditional Village | Serena Solesbee, ICWA Program Manager | Association of Village Council Presidents, P.O. Box 219, Bethel, AK 99559 | (907) 543-8691 | (907) 543-7644 | icwa2@avcp.org
Pauloff Harbor Village | Amanda McAdoo, Family Services Coordinator | Aleutian Pribilof Islands Association Inc., 1131 E International Airport Road, Anchorage, AK 99518 | (907) 276-2700 | (907) 222-9735 | amandam@apiai.org
Pedro Bay Village | Verna Kolyaha, Program Services | P.O. Box 47020, Pedro Bay, AK 99647 | (907) 850-2341 | (907) 850-2232 | vjkolyaha@pedrobay.com
Petersburg Indian Association | Kara Wesebaum, ICWA/Social Services | P.O. Box 1418, Petersburg, AK 99833 | (907) 772-3636 | (907) 772-3686 | icwa@piatribal.org
Pilot Station Traditional Village | Serena Solesbee, ICWA Program Manager | Association of Village Council Presidents, P.O. Box 219, Bethel, AK 99559 | (907) 543-8691 | (907) 543-7644 | icwa2@avcp.org
Pitka's Point Traditional Council | Serena Solesbee, ICWA Program Manager | Association of Village Council Presidents, P.O. Box 219, Bethel, AK 99559 | (907) 543-8691 | (907) 543-7644 | icwa2@avcp.org
Platinum Traditional Village | Serena Solesbee, ICWA Program Manager | Association of Village Council Presidents, P.O. Box 219, Bethel, AK 99559 | (907) 543-7461 | (907) 543-7644 | icwa2@avcp.org
Portage Creek Village (aka Ohgsenakale) | Children's Services Division Manager | Bristol Bay Native Association, P.O. Box 310, Dillingham, AK 99576 | (907) 842-4139 | (907) 842-4106 | BBICWA@bbna.com
Qagan Tayagungin Tribe of Sand Point | Amanda McAdoo, Family Services Coordinator | Aleutian Pribilof Islands Association Inc., 1131 E International Airport Road, Anchorage, AK 99518 | (907) 276-2700 | (907) 222-9735 | amandam@apiai.org
Qawalangin Tribe of Unalaska | Amanda McAdoo, Family Services Coordinator | Aleutian Pribilof Islands Association Inc., 1131 E International Airport Road, Anchorage, AK 99518 | (907) 276-2700 | (907) 222-9735 | amandam@apiai.org
Rampart Village | Miriam A. Titus, Acting Tribal Social Services Manager | Tanana Chiefs Conference, 122 First Ave., Ste. 600, Fairbanks, AK 99701 | (907) 452-8251 | (907) 459-3984 | miriam.titus@tananachiefs.org
Saint George Island | Amanda McAdoo, Family Services Coordinator | Aleutian Pribilof Islands Association Inc., 1131 E International Airport Road, Anchorage, AK 99518 | (907) 276-2700 | (907) 222-9735 | amandam@apiai.org
Saint Paul Island | Sheridan DesGranges, ICWA Worker | P.O. Box 86, St. Paul Island, AK 99660 | (907) 257-2639 | (907) 931-2648 | icwa@aleut.com
Salamatof Tribe | Maria Guerra, Family and Social Services Director | Kenaitze Indian Tribe, P.O. Box 988, Kenai, AK 99611 | (907) 335-7611 | (907) 202-8359 | MGuerra@kenaitze.org
Seldovia Village Tribe | Shannon Custer, Youth & Family Services Director | P.O. Drawer L, Seldovia, AK 99663 | (907) 234-7898 | (907) 234-7865 | scuster@svt.org
Shageluk Native Village | Miriam A. Titus, Acting Tribal Social Services Manager | Tanana Chiefs Conference, 122 First Ave., Ste. 600, Fairbanks, AK 99701 | (907) 452-8251 | (907) 459-3984 | miriam.titus@tananachiefs.org
Sitka Tribe of Alaska | Melonie Boord, Social Services Director | 456 Katlian Street, Sitka, AK 99835 | (907) 747-7359 | (907) 747-4915 | melonie.boord@sitkatribe-nsn.gov
Skagway Village | Kathryn Klug, ICWA Worker | P.O. Box 1157, Skagway, AK 99840 | (907) 983-4068 | (907) 983-3068 | Kathryn@skagwaytraditional.org
South Naknek Village | Lorianne Zimin, ICWA Coordinator | 2521 E Mountain Village Dr., Ste. B PMB 388, Wasilla, AK 99654 | (907) 631-3648 | (907) 631-0949 |
Stebbins Community Association | Heather Payenna, CFS Manager | Kawerak Inc. Children & Family Services, P.O. Box 948, Nome, AK 99762 | (907) 443-4261 | (907) 443-4601 | hpayenna@kawerak.org
Sun'aq Tribe of Kodiak | Linda Resoff, Social Services Director | 312 West Marine Way, Kodiak, AK 99615 | (907) 486-0260 | (907) 486-0264 | socialservices@sunaq.org
Takotna Village | Miriam A. Titus, Acting Tribal Social Services Manager | Tanana Chiefs Conference, 122 First Ave., Ste. 600, Fairbanks, AK 99701 | (907) 452-8251 | (907) 459-3984 | miriam.titus@tananachiefs.org
Tangirnaq Native Village | Shelly Peterson, Tribal Administrator | 3449 Rezanof Drive East, Kodiak, AK 99615 | (907) 486-9872 | (907) 486-4829 | info@woodyisland.com
Telida Village | Miriam A. Titus, Acting Tribal Social Services Manager | Tanana Chiefs Conference, 122 First Ave., Ste. 600, Fairbanks, AK 99701 | (907) 452-8251 | (907) 459-3984 | miriam.titus@tananachiefs.org
Traditional Village of Togiak | Children's Services Division Manager | Bristol Bay Native Association, P.O. Box 310, Dillingham, AK 99576 | (907) 842-4139 | (907) 842-4106 | BBICWA@bbna.com
Tuluksak Native Community | Serena Solesbee, ICWA Program Manager | Association of Village Council Presidents, P.O. Box 219, Bethel, AK 99559 | (907) 543-8691 | (907) 543-7644 | icwa2@avcp.org
Twin Hills Village | Children's Services Division Manager | Bristol Bay Native Association, P.O. Box 310, Dillingham, AK 99576 | (907) 842-4139 | (907) 842-4106 | BBICWA@bbna.com
Ugashik Village | Steven Alvarez, Tribal Administrator | 2525 Blueberry Road, Suite 205, Anchorage, AK 99503 | (907) 338-7611 | (907) 338-7659 | manager@ugashikvillage.com
Umkumiut Native Village | Serena Solesbee, ICWA Program Manager | Association of Village Council Presidents, P.O. Box 219, Bethel, AK 99559 | (907) 543-8691 | (907) 543-7644 | icwa2@avcp.org
Village of Alakanuk | Serena Solesbee, ICWA Program Manager | Association of Village Council Presidents, P.O. Box 219, Bethel, AK 99559 | (907) 543-8691 | (907) 543-7644 | icwa2@avcp.org
Village of Anaktuvuk Pass | Courtney Yemiola, Social Services Director | Arctic Slope Native Association, P.O. Box 1232, Utqiagvik, AK 99723 | (907) 852-9374 | (907) 852-2761 | Courtney.Yemiola2@arcticslope.org
Village of Aniak | Mary L. Kvamme, ICWA Coordinator | P.O. Box 232, Aniak, AK 99557 | (907) 675-4349 | (907) 675-4513 | mkvamme61@gmail.com
Village of Atmautluak | Pauline Waska, Council President | P.O. Box 6568, Atmautluak, AK 99559 | (907) 553-5510 | (907) 553-5612 | Icwa617@gmail.com
Village of Bill Moore's Slough | Serena Solesbee, ICWA Program Manager | Association of Village Council Presidents, P.O. Box 219, Bethel, AK 99559 | (907) 543-8691 | (907) 543-7644 | icwa2@avcp.org
Village of Chefornak | Edward Kinegak, ICWA Specialist | P.O. Box 110, Chefornak, AK 99561 | (907) 867-8808 | (907) 867-8711 | suckaq@gmail.com
Village of Clarks Point | Children's Services Division Manager | Bristol Bay Native Association, P.O. Box 310, Dillingham, AK 99576 | (907) 542-4139 | (907) 842-4106 | BBICWA@bbna.com
Village of Crooked Creek | Serena Solesbee, ICWA Program Manager | Association of Village Council Presidents, P.O. Box 219, Bethel, AK 99559 | (907) 543-8691 | (907) 543-7644 | icwa2@avcp.org
Village of Dot Lake | Tracy Charles-Smith, President | P.O. Box 70494, Fairbanks, AK 99707 | (907) 882-2695 |  | ridge@gci.net
Village of Iliamna | Louise Anelon, Administrator/ICWA Worker | P.O. Box 286, Iliamna, AK 99606 | (907) 571-1246 | (907) 571-3539 | louise.anelon@iliamnavc.org
Village of Kalskag | Serena Solesbee, ICWA Program Manager | Association of Village Council Presidents, P.O. Box 219, Bethel, AK 99559 | (907) 543-8691 | (907) 543-7644 | icwa2@avcp.org
Village of Kaltag | Miriam A. Titus, Acting Tribal Social Services Manager | Tanana Chiefs Conference, 122 First Ave., Ste. 600, Fairbanks, AK 99701 | (907) 452-8251 | (907) 459-3984 | miriam.titus@tananachiefs.org
Village of Kotlik | Serena Solesbee, ICWA Program Manager | Association of Village Council Presidents, P.O. Box 219, Bethel, AK 99559 | (907) 543-8691 | (907) 543-7644 | SSolesbee@avcp.org
Village of Lower Kalskag | Serena Solesbee, ICWA Program Manager | Association of Village Council Presidents, P.O. Box 219, Bethel, AK 99559 | (907) 543-8691 | (907) 543-7644 | icwa2@avcp.org
Village of Ohogamiut | Serena Solesbee, ICWA Program Manager | Association of Village Council Presidents, P.O. Box 219, Bethel, AK 99559 | (907) 543-8691 | (907) 543-7644 | icwa2@avcp.org
Village of Red Devil | Serena Solesbee, ICWA Program Manager | Association of Village Council Presidents, P.O. Box 57, Red Devil, AK 99656 | (907) 543-8691 | (907) 543-7644 | SSolebee@avcp.org
Village of Sleetmute | Serena Solesbee, ICWA Program Manager | Association of Village Council Presidents, P.O. Box 219, Bethel, AK 99559 | (907) 543-8691 | (907) 543-7644 | icwa2@avcp.org
Village of Solomon | Elizabeth Johnson | P.O. Box 2053, Nome, AK 99762 | (907) 443-4985 | (907) 443-5189 | tc.sol@kawerak.org
Village of Stony River | Serena Solesbee, ICWA Program Manager | Association of Village Council Presidents, P.O. Box 219, Bethel, AK 99559 | (907) 543-8691 | (907) 543-7644 | icwa2@avcp.org
Village of Venetie | Miriam A. Titus, Acting Tribal Social Services Manager, Artic Village and Village of Venetie | Tanana Chiefs Conference, 122 First Ave., Ste. 600, Fairbanks, AK 99701 | (907) 452-8251 | (907) 459-3984 | miriam.titus@tananachiefs.org
| Sierra Fields, Venetie Tribal Court, Village of Venetie | P.O. Box 81109, Venetie, AK 99781 | (907) 849-8537 | (907) 849-8546 | Fieldssierra49@gmail.com
Village of Wainwright | Courtney Yemiola, Social Services Director | Arctic Slope Native Association, P.O. Box 1232, Utqiagvik, AK 99723 | (907) 852-9374 | (907) 852-2761 | Courtney.Yemiola2@arcticslope.org
Wrangell Cooperative Association | Will Kronick, Family Services Administrator | Central Council of the Tlingit and Haida Indian Tribes, P.O. Box 25500, Juneau, AK 99802 | (907) 463-7168 | (907) 885-0032 | wkronick@ccthita-nsn.gov
Yakutit Tlingit Tribe | Marry Knustsen, ICWA Advocate | P.O. Box 418, Yakutat, AK 99689 | (907) 784-3268 | (907) 784-3595 | mknutsen@yttribe.org
Yupiit of Andreafski | Serena Solesbee, ICWA Program Manager | Association of Village Council Presidents, P.O. Box 219, Bethel, AK 99559 | (907) 543-8691 | (907) 543-7644 | SSolesbee@avcp.org

2. Eastern Region

Eastern Regional Director, 545 Marriot Drive, Ste. 700, Nashville, TN 37214; Telephone Number: (615) 564-6500; Fax Number: (615) 564-6701.

Tribe | ICWA POC | Mailing address | Telephone No. | Fax No. | Email address
Catawba Indian Nation | Keri Wallace, ICWA Coordinator | Catawba Indian Nation, 996 Avenue of Nations, Rock Hill, SC 29730 | (803) 992-6293 | (803) 325-1242 | keri.wallace@catawbaindian.com
Cayuga Nation | Sharon Leroy, Executor | P.O. Box 803, Seneca Falls, NY 13148 | (315) 568-0750 | (315) 568-0752 | sharon.leroy@nsncayuganation-nsn.gov
Chickahominy Indian Tribe | Martha N. Adkins, ICWA Coordinator | 8200 Lott Cary Road, Providence Forge, VA 23140 | (804) 829-2027 |  | martha.adkins@chickahominytribe.org
Chickahominy Indian Tribe—Eastern Division | Doris Ann Austin, ICWA Coordinator | 2895 Mt. Pleasant Road, Providence Forge, VA 23140 | (804) 966-7815 | (804) 506-3017 | doris.austin@cit-ed.org
Chitimacha Tribe of Louisiana | Karen Matthews, Director of Health and Human Services | P.O. Box 520, Charenton, LA 70523 | (337) 923-7000 | (337) 923-2475 | karen@chitimacha.gov
Coushatta Tribe of Louisiana | Rayne Langley, ICWA Coordinator | 1984 CC Bel RD, Elton, LA 70532 | (337) 584-1437 |  | rlangley@coushatta.org
Eastern Band of Cherokee Indians | Jenny Bean, Family Safety Supervisor | P.O. Box 666, Cherokee, NC 28719 | (828) 359-6149 | (828) 359-6149 | jennbean@ebci-nsn.gov
Houlton Band of Maliseet Indians | Lori Jewell, ICWA Coordinator | 88 Bell Road, Littleton, ME 04730 | (207) 532-3800 | (207) 532-7287 | ljewell@maliseets.com
Jena Band of Choctaw Indians | Mona Maxwell, Social Services Director | P.O. Box 14, Jena, LA 71342 | (318) 992-0136 | (318) 992-4162 | mmaxwell@jenachoctaw.org
Mashantucket Pequot Indian Tribe | Valerie Burgess, Director Child Protective Services | 102 Muhshee Mahchaq, P.O. Box 3313, Mashantucket, CT 06338 | (860) 396-2007 | (860) 396-2144 | vburgess@mptn-nsn.gov
Mashpee Wampanoag Tribe | Maria Turner, ICWA Director | 483 Great Neck Road—South, Mashpee, MA 02649 | (508) 477-0208 | (774) 361-6034 | maria.turner@mwtribe-nsn.gov
Miccosukee Tribe of Indians | Martha Vega, Director of Social Services | P.O. Box 440021, Tamiami Station, Miami, FL 33144 | (305) 223-8380 | (305) 894-5232 | marthav@miccosukeetribe.com
Mi'kmaq Nation | Norma Saulis, ICWA Coordinator | 7 Northern Road, Presque Isle, ME 04769 | (207) 764-1972 | (207) 764-7667 | nsaulis@micmac-nsn.gov
Mississippi Band of Choctaw Indians | Jessica Martinez, ICWA Coordinator | P.O. Box 6258, Choctaw, MS 39350 | (601) 656-4507 | (601) 656-1357 | icwa@choctaw.org
Mohegan Tribe of Indians of Connecticut | Connie Hilbert, Executive Director of Health & Human Services | 13 Crow Hill Road, Uncasville, CT 06832 | (860) 862-6147 | (860) 862-6884 | chilbert@moheganmail.com
Monacan Indian Nation | Matthew & Sally Latimer, ICWA Coordinators | 111 Highview Drive, Madison Heights, VA 24572 | (434) 363-4864 |  | mattjlatimer@aol.com
Nansemond Indian Nation | Chief Keith Anderson | 1001 Pembroke Lane, Suffolk, VA 23434 | (757) 619-0670 |  | chief@nansemond.org
Narragansett Indian Tribe | Anemone Mars, ICWA Program Manager | 4375B South County Trail, P.O. Box 268, Charlestown, RI 02813 | (401) 364-9500 | (401) 364-1104 | Wenonah.harris@gmail.com
Oneida Indian Nation | Kim Jacobs, Nation Clerk | Box 1, Vernon, NY 13476 | (315) 829-8337 | (315) 366-9231 | kjacobs@oneida-nation.org
Onondaga Nation | Onondaga Family Services | 104 West Conklin Ave., Nedrow, NY 13120 | (315) 469-9196 | (315) 469-3250 | ononfs@gmail.com
Pamunkey Indian Tribe | Allyson Gray, ICWA/Enrollment Coordinator | 1054 Pocahontas Trail, King William, VA 23086 | (804) 843-2372 | (866) 422-3387 | allyson.gray@pamunkey.org
Passamaquoddy Tribe | Tene Downing, Director of Child Welfare, (Indian Township) | P.O. Box 301, Princeton, ME 04668 | (207) 796-6134 |  | tdowning.itcw@gmail.com
| Julie Mitchell, Director, (Pleasant Point) | P.O. Box 343, Perry, ME 04667 | (207) 853-5111 | (207) 853-9618 | shsdirector@wabanaki.com
Penobscot Nation | Michael Augustine, Director of Social Services | 1 Down Street, Indian Island, ME 04468 | (207) 817-7336 | (207) 817-3166 | Michael.Augustine@penobscotnation.org
Poarch Band of Creek Indians | Synethia K. Thomas, ICWA Director | 5811 Jack Springs Road, Atmore, AL 36502 | (251) 368-9136 |  | sthomas@pci-nsn.gov
Rappahannock Tribe, Inc | G. Anne Richardson, ICWA Coordinator | 5036 Indian Neck Road, Indian Neck, VA 23148 | (804) 769-0260 |  | info@rappahannocktribe.org
Saint Regis Mohawk Tribe | Jean Square, ICWA Program Manager | 71 Margaret Terrance Memorial Way, Akwesasne, NY 13655 | (518) 358-2360 | (518) 358-9107 | jean.square@smrt-nsn.gov
Seminole Tribe of Florida | Shamika Beasley, Advocacy Administrator | 111 W Coral Way, Hollywood, FL 33021 | (954) 965-1338 | (954) 985-2339 | shamikabeasley@semtribe.com
Seneca Nation of Indians | Tammie DeYoe, Director of Child & Family Services | 987 RC Hoag Drive, Salamanca, NY 14799 | (716) 532-8223 | (716) 945-7881 | tdeyoe@senecahealth.org
Shinnecock Indian Nation | Paula Collins, ICWA Coordinator | P.O. Box 1268, South Hampton, NY 11969 | (631) 287-6476 |  | paulacollins@shinnecock.org
Tonawanda Band of Seneca | Chief Roger Hill | 7027 Meadville Road, Basom, NY 14013 | (716) 542-4244 | (716) 542-4008 | tonseneca@aol.com
Tunica-Biloxi Indian Tribe | Evelyn Cass, Social Service Department | P.O. Box 493, Marksville, LA 71351 | (318) 240-6444 | (318) 500-3011 | ecass@tunica.org
Tuscarora Nation | Chief Tom Jonathan | 5226 Walmore Road, Lewistown, NY 14092 | (716) 264-6007 |  | tuscnationhouse@gmail.com
Upper Mattaponi Tribe | Wilma Hicks, Assistant Tribal Administrator | 13476 King William Road, King William, VA 23086 | (804) 535-0557 |  | assistantadmin@umitribe.org
Wampanoag Tribe of Gay Head (Aquinnah) | Ambika Datta, ICWA Coordinator | 20 Black Brook Road, Aquinnah, MA 02535 | (508) 645-9265 | (508) 645-2755 | chairwoman@wampanoagtribe.net

3. Eastern Oklahoma Region

Eastern Oklahoma Regional Director, P.O. Box 8002, Muskogee, OK 74402; Telephone Number: (918) 781-4600; Fax Number (918) 781-4604.

Tribe | ICWA POC | Mailing address | Telephone No. | Fax No. | Email address
Alabama—Quassarte Tribal Town | Samuel Deere, ICW Director | P.O. Box 187, Wetumka, OK 74883 | (405) 452-3659 | (405) 452-3435 | sdeere@alabama-quassarete.org
Cherokee Nation | Cherokee Nation Indian Child Welfare | P.O. Box 948, Tahlequah, OK 74465 | (918) 458-6900 | (918) 458-6146 | lou-stretch@cherokee.org
Delaware Tribe of Indians | Aimee Turner, Department of Family and Children Services | 5100 Tuxedo Blvd., Ste. C, Bartlesville, OK 74006 | (918) 337-6510 | (918) 337-6518 | aturner@delawaretribe.org
Eastern Shawnee Tribe of Oklahoma | Tamara Gibson, Child and Family Services Coordinator | 10100 S Bluejacket Road, Suite 3, Wyandotte, OK 74370 | (918) 666-7710 | (888) 971-3908 | tgibson@estoo.net
Kialegee Tribal Town | Jennie Lillard, ICW Coordinator | P.O. Box 332, Wetumka, OK 74883 | (405) 452-5388 | (405) 452-3413 | Jennie.lillard@kialegeetribe.net
Miami Tribe of Oklahoma | Corinna Campbell-Green, ICW Coordinator | P.O. Box 1326, Miami, OK 74355 | (918) 541-1381 | (918) 542-6448 | Ccampbell-green@miamination.com
Modoc Nation | Amy Maze-Crowder, Youth Services Coordinator | 625 6th SE, Miami, OK 74354 | (918) 325-3643 | (918) 542-7878 | amy.maze-crowder@modochealinghouse.com
Ottawa Tribe of Oklahoma | Jonathan Jacobs, Director of Child Welfare | P.O. Box 110, Miami, OK 74355 | (918) 540-1536 | (918) 542-3214 | JDJacobs.OTO@gmail.com
Peoria Tribe of Indians of Oklahoma | Tracy Coach, Indian Child Welfare Director | P.O. Box 1527, Miami, OK 74355 | (918) 540-2535 | (918) 540-2538 | tcoach@peoriatribe.com
Quapaw Nation | Mandy Dement, Family Services | P.O. Box 765, Quapaw, OK 74363 | (918) 238-3152 | (918) 674-2581 | mdement@quapawtribe.com
Seneca-Cayuga Nation | Dana Giles, Family Service Manager | 23701 South 655, Grove, OK 74344 | (918) 786-3508 | (918) 787-5521 | dgiles@sctribe.com
Shawnee Tribe | Sean Graham, ICW Representative | P.O. Box 189, Miami, OK 74355 | (918) 542-7232 |  | sean@shawnee-tribe.com
The Chickasaw Nation | Michelle Price, Director | 810 Colony Drive, Ada, OK 74820 | (580) 272-5550 | (580) 272-5553 | michelle.price@chickasaw.net
The Choctaw Nation of Oklahoma | Amanda Robinson, ICW Director | 1802 Chukka Hina Dr., P.O. Box 1210, Durant, OK 74702 | (580) 924-8280 | (580) 920-3197 | cfsreferrals@choctawnation.com
The Muscogee (Creek) Nation | Ann Davis, Director of Child and Family Services | P.O. Box 580, Okmulgee, OK 74447 | (918) 732-7859 | (918) 732-7855 | edavis@muscogeenation.com
The Osage Nation | Ladonna Shadlow, Social Services Director | 255 Senior Drive, Pawhuska, OK 74056 | (918) 287-5243 | (918) 287-5231 | lshadlow@osagenation-nsn.gov
The Seminole Nation of Oklahoma | Stephanie Haney Brown, Director | P.O. Box 1498, Wewoka, OK 74884 | (405) 257-9038 | (405) 257-9036 | haneybrown.s@sno-nsn.gov
Thlopthlocco Tribal Town | Yvonda Fixico, Social Service Director | P.O. Box 188, Okemah, OK 74859 | (918) 560-6121 | (918) 623-3023 | yfixico@tttown.org
United Keetoowah Band of Cherokee Indians in Oklahoma | Roxana Wilden, ICW Advocate | P.O. Box 746, Tahlequah, OK 74465 | (918) 871-2839 | (918) 431-0152 | rwilden@ukb-nsn.gov
Wyandotte Nation | Tara Gragg, Social Worker | 64700 E Hwy. 60, Wyandotte, OK 74370 | (918) 678-6355 | (918) 678-3087 | tgragg@wyandotte-nation.org

4. Great Plains Region

Great Plains Regional Director, 115 4th Avenue SE, Ste. 400, Aberdeen, SD 57401; Telephone Number: (605) 226-7343; Fax Number: (605) 226-7446.

Tribe | ICWA POC | Mailing address | Telephone No. | Fax No. | Email address
Cheyenne River Sioux Tribe of the Cheyenne River Reservation, South Dakota | Diane Garreau, ICWA Program Director | 100 Main Teton Mall, P.O. Box 590, Eagle Butte, SD 57625 | (605) 964-6460 | (605) 964-6463 | Dgarreau61@hotmail.com
Crow Creek Sioux Tribe of the Crow Creek Reservation, South Dakota | Wendelin R. Janis, CCST ICWA Director | 147 Red Horse Road, P.O. Box 247, Ft. Thompson, SD 57339 | (605) 245-2581 | (605) 245-2401 | wendelinj.cct.icwa@gmail.com
Flandreau Santee Sioux Tribe of South Dakota | Jessica Morson, ICWA Administrator | 603 W Broad Ave., P.O. Box 283, Flandreau, SD 57028 | (605) 997-5055 | (605) 997-3694 | jessica.morson@fsst.org
Lower Brule Sioux Tribe of the Lower Brule Reservation, South Dakota | Jera Brouse-Koster, Designated Tribal Agent-ICWA | 187 Oyate Circle, Lower Brule, SD 57548 | (605) 473-5561 | (605) 473-0119 | jerabrouse@lowerbrule.net
Oglala Sioux Tribe | David Red Cloud, ICWA Specialist | East Hwy. 18, IHS Compound, P.O. Box 604, Pine Ridge, SD 57770 | (605) 867-5752 | (605) 867-5941 | davidrc@oglala.org
Omaha Tribe of Nebraska | Mary Webster, ICWA Director | P.O. Box 368, Macy, NE 68039 | (402) 837-5331 | (402) 837-5362 | maryt.webster@theomahatribe.com
Ponca Tribe of Nebraska | Lynn Schultz, ICWA Specialist | 1800 Syracuse Avenue, Norfolk, NE 68701 | (402) 371-8834 | (402) 371-7564 | lschultz@poncatribe-ne.org
Rosebud Sioux Tribe of the Rosebud Indian Reservation, South Dakota | Shirley J. Bad Wound, ICWA Specialist | East Hwy. 18, P.O. Box 609, Mission, SD 57555 | (605) 856-5270 | (605) 856-5268 | rsticwa9@gwtc.net
Santee Sioux Nation, Nebraska | Renae Wolf, ICWA Specialist | 425 Frazier Ave. N, Suite 2, RR 302—P.O. Box 5191, Niobrara, NE 68760 | (402) 857-2342 | (402) 857-2361 | renae.wolf@nebraska.gov
Sisseton-Wahpeton Oyate of the Lake Traverse Reservation, South Dakota | Evelyn Pilcher, ICWA Director | 12554 BIA Route 701, P.O. Box 509, Agency Village, SD 57262 | (605) 698-3992 | (605) 698-3999 | evelyn.pilcher@state.sd.us
Spirit Lake Tribe, North Dakota | Marie Martin, ICWA Coordinator | 7184 Highway 57, P.O. Box 356, Fort Totten, ND 58335 | (701) 766-4404 | (701) 766-4722 | slticwadir@spiritlakenation.com
Standing Rock Sioux Tribe of North & South Dakota | Rebecca Greybull, ICWA Coordinator | Bldg. 1 Standing Rock Ave., P.O. Box 770, Fort Yates, ND 58538 | (701) 854-3095 | (701) 854-5575 | rgreybull@standingrock.org
Three Affiliated Tribes of the Fort Berthold Reservation, North Dakota | Bobbie Johnson, ICWA Specialist | Three Affiliated Tribes Social Services, 404 Frontage Road, New Town, ND 58763 | (701) 627-8199 |  | bjohnson@mhanation.com
Turtle Mountain Band of Chippewa Indians of North Dakota | Marilyn Poitra, ICWA Coordinator | 4051 Hwy. 281, P.O. Box 900, Belcourt, ND 58316 | (701) 477-5688 | (701) 477-5797 | marilynp@tmcwfs.net
Winnebago Tribe of Nebraska | Elexa Mollet, ICWA Specialist | 912 Mission Drive, P.O. Box 723, Winnebago, NE 68071 | (402) 878-2379 | (402) 878-2228 | elexa.mollet@winnebagotribe.com
Yankton Sioux Tribe of South Dakota | Melissa Sanchez, ICWA Director | 108 East Ave. SE, P.O. Box 1153, Wagner, SD 57380 | (605) 384-5712 | (605) 384-5014 | yst_icwa@outlook.com

5. Midwest Region

Midwest Regional Director, 5600 West American Blvd., Ste. 500, Pointe II Building, Bloomington, MN 55437; Telephone Number: (612) 725-4500; Fax Number: (612) 713-4401.

Tribe | ICWA POC | Mailing address | Telephone No. | Fax No. | Email address
Bad River Band of the Lake Superior Tribe of Chippewa Indians of the Bad River Reservation, Wisconsin | Gina Secord, Abinoojiyag Resource Center Program Manager | P.O. Box 55, Odanah, WI 54861 | (715) 682-7127 | (715) 682-7887 | ARCMgr@badriver-nsn.gov
Bay Mills Indian Community, Michigan | Phyllis Kinney, Tribal Court Administrator | 12449 West Lakeshore Drive, Brimley, MI 49715 | (906) 248-3241 | (906) 248-8811 | phyllisk@baymills.org
Forest County Potawatomi Community, Wisconsin | Maline Enders, ICWA Supervisor | 5415 Everybody's Road, Crandon, WI 54520 | (715) 478-7471 | (715) 478-7442 | Maline.Enders@fcp-nsn.gov
Grand Traverse Band of Ottawa and Chippewa Indians, Michigan | Helen Cook, Anishinaabek Family Services Supervisor | 2605 N West Bayshore Drive, Peshawbestown, MI 49682 | (231) 534-7681 | (231) 534-7706 | helen.cook@gtbindians.com
Hannahville Indian Community, Michigan | Wendy Lanaville, ICWA Worker | N15019 Hannahville B1 Road, Wilson, MI 49896 | (906) 723-2512 | (906) 466-7397 | wendy.lanaville@hichealth.org
Ho-Chunk Nation of Wisconsin | Valerie Blackdeer, CFS Director | 808 Red Iron Road, Black River Falls, WI 54615 | (715) 284-7749 | (715) 284-0097 | valerie.blackdeer@ho-chunk.com
Keweenaw Bay Indian Community, Michigan | Corey Pietila, ICWA Designated Agent | 16429 Bear Town Road, Baraga, MI 49908 | (906) 353-4201 | (906) 353-8171 | cpietila@kbic-nsn.gov
Lac Courte Oreilles Band of Lake Superior Chippewa Indians of Wisconsin | Tibissum Rice, Indian Child Welfare Director | 13394 W Trepania Road, Hayward, WI 54843 | (715) 558-7457 | (715) 634-2981 | Tibissum.Rice@lco-nsn.gov
Lac du Flambeau Band of Lake Superior Chippewa Indians of the Lac du Flambeau Reservation of Wisconsin | Kristin Allen, ICW Director | P.O. Box 216, Lac du Flambeau, WI 54538 | (715) 588-4275 | (715) 588-3855 | ldficw@ldftribe.com
Lac Vieux Desert Band of Lake Superior Chippewa Indians of Michigan | Dee Dee McGeshick, Social Services Director and Marisa Vanzile | P.O. Box 249, Watersmeet, MI 49969 | (906) 358-4940 | (906) 358-9920 | dee.mcgeshick@lvdtribal.com
Little River Band of Ottawa Indians, Michigan | Marissa Kist, Paralegal | 3031 Domres Road, Manistee, MI 49660 | (231) 398-3384 | (231) 398-3387 | marissakist@lrboi-nsn.gov
Little Traverse Bay Bands of Odawa Indians, Michigan | Heather Boening, Human Services Director | 7500 Odawa Circle, Attn: DHS, Harbor Springs, MI 49740 | (231) 242-1620 | (231) 242-1635 | hboening@ltbbodawa-nsn.gov
Lower Sioux Indian Community in the State of Minnesota | Holly Schmitt, Lower Sioux Family Services Supervisor | 39458 Reservation Highway 1, Morton, MN 56270 | (507) 697-8680 | (507) 697-6198 | lsfsintake@lowersioux.com
Match-e-be-nash-she-wish Band of Pottawatomi Indians of Michigan | Dominique Ambriz, ICWA Representative | 2880 Mission Dr., Shelbyville, MI 49344 | (269) 397-1760 | (269) 397-1761 | Dominique.Ambriz@hhs.glt-nsn.gov
Menominee Indian Tribe of Wisconsin | Carol Corn, Director of Social Services | P.O. Box 520, Keshena, WI 54135 | (715) 799-5161 | (715) 799-6061 | MenomineeFamily Services@mitw.org
Minnesota Chippewa Tribe, Minnesota (Six component reservations: Bois Forte Band (Nett Lake); Fond du Lac Band; Grand Portage Band; Leech Lake Band; Mille Lacs Band; White Earth Band) | Angela Wright, Indian Child Welfare Supervisor or Dr. Evelyn Campbell, Human Services Director Bois Forte Band (Nett Lake) | 13071 Nett Lake Road, Suite A, Nett Lake, MN 55771 | (218) 757-3295 (218) 335-8586 | (218) 757-3335 (218) 335-8080 | amwright@boisforte-nsn.gov; ecampbell@mnchippewatribe.org
| Janelle Barney, ICWA Lead, Fond du Lac Band | 927 Trettel lane, ATTN: Social Services, Cloquet, MN 55720 | (218) 878-2142 (218) 335-8586 | (218) 878-2198 (218) 335-8080 | icwanotices@fdlrez.com; ecampbell@mnchippewatribe.org
| Jacki Kozlowski, Human Service Director or Dr. Evelyn Campbell, Human Services Director, Grand Portage Band | P.O. Box 428, Grand Portage, MN 55605 | (218) 475-2453 (218) 335-8586 | (218) 475-2455 (218) 335-8080 | jkozlowski@grandportage.com; ecampbell@mnchippewatribe.org
| Justina Farris, Intake Coordinator or Dr. Evelyn Campbell, Human Services Director, Leech Lake Band | 190 Sailstar Dr. NE, P.O. Box 967, Cass Lake, MN 56633 | (218) 335-8328 (218) 335-8586 | (218) 335-7234 (218) 335-8080 | justina.farris@llojibwe.net; ecampbell@mnchippewatribe.org
| Mishelle Ballinger, Health and Human Services-Family Services Intake and Referral Specialist or Dr. Evelyn Campbell, Human Services Director, Mille Lacs Band | 18562 Minobimaadizi Loop, Onamia, MN 56359 | (320) 532-1725 (218) 335-8586 | (320) 532-4569 (218)335-8080 | Mlbo.fsintake@hhs.millelacsband-nsn.gov; ecampbell@mnchippewatribe.org
| Roberta Roy, Program Director or Dr. Evelyn Campbell, Human Services Director White Earth Band | White Earth Indian Child Welfare, P.O. Box 358, White Earth, MN 56591 | (218) 983-4647 (218) 335-8586 | (218) 983-3712 (218) 335-8080 | Roberta.Roy@whiteearth-nsn.gov; ecampbell@mnchippewatribe.org
Nottawaseppi Huron Band of the Potawatomi, Michigan | Meg Fairchild, Social Services Director | 1485 Mno Bmadzewen Way, Fulton, MI 49052 | (269) 704-8341 | (269) 729-5920 | meg.fairchild@nhbp-nsn.gov
Oneida Nation | Jennifer Berg-Hargrove, Family Services Director | Attn: Oneida Family Services, ICW Department, P.O. Box 365, Oneida, WI 54155 | (920) 490-3700 | (920) 490-3820 | icw@oneidanation.org
Pokagon Band of Potawatomi Indians, Michigan & Indiana | Mark Pompey, Social Services Director | 58620 Sink Road, Dowagiac, MI 49047 | (269) 462-4277 | (269) 782-4295 | mark.pompey@pokagonband-nsn.gov
Prairie Island Indian Community in the State of Minnesota | Randi Jo Taylor, Enrollment Office | 5636 Sturgeon Lake Road, Welch, MN 55089 | (651) 385-4126 | (651) 385-4180 | randijo.taylor@piic.org
Red Cliff Band of Lake Superior Chippewa Indians of Wisconsin | Rebecca Benton, Family & Human Services Division Administrator | 88455 Pike Rd., Bayfield, WI 54814 | (715) 779-3706 | (715) 779-3783 | rbenton@redcliff-nsn.gov
Red Lake Band of Chippewa Indians, Minnesota | Red Lake Nation ICWA, Team Lead/Social Worker ICWA Unit | 200 Aldrich Ave. S, Minneapolis, MN 55405 | (218) 407-5844 |  | ICWA@redlakenation.org
Sac and Fox Tribe of the Mississippi in Iowa | Mylene Wanatee, Director of Family Services | P.O. Box 245, Tama, IA 52339 | (641) 484-4444 | (641) 484-2103 | mylene.wanatee@meskwaki-nsn.gov
Saginaw Chippewa Indian Tribe of Michigan | Patrick Nahgahgwon, ICWA Contact | 7500 E Soaring Eagle Blvd., Mt. Pleasant, MI 48858 | (989) 775-4921 | (989) 775-4912 | icwa@sagchip.org
Sault Ste. Marie Tribe of Chippewa Indians, Michigan | Melissa VanLuven, ICWA Program Director | 2218 Shunk Rd., Sault Ste. Marie, MI 49783 | (906) 632-5250 | (906) 632-5266 | ICWA-MIFPA-Contacts@saulttribe.net
Shakopee Mdewakanton Sioux Community of Minnesota | Christine Wilken, ICWA Contact | 2330 Sioux Trail NW, Prior Lake, MN 55372 | (952) 496-6188 |  | ICWA@shakopeedakota.org
Sokaogon Chippewa Community, Wisconsin | Nick Vanzile, Director Indian Child Welfare | 10808 Sokaogon Drive, Crandon, WI 54520 | (715) 478-6437 | (715) 478-0692 | nick.vanzile@scc-nsn.gov
St. Croix Chippewa Indians of Wisconsin | Elizabeth Lowe, Indian Child Welfare Director | 4404 State Road 70, Webster, WI 54893 | (715) 214-2940 | (715) 349-8665 | elizabethl@stcroixojibwe-nsn.gov
Stockbridge Munsee Community, Wisconsin | Teresa Juga, ICWA Manager | Stockbridge Munsee Health and Wellness Center, W12802 County A, Bowler, WI 54416 | (715) 793-4580 | (715) 793-1312 | teresa.juga@mohican.com
Upper Sioux Community, Minnesota | Jamie Preuss, ICWA Representative | P.O. Box 147, 5744 Hwy. 67, Granite Falls, MN 56241 | (320) 564-6319 | (320) 564-2550 | jamiep@uppersiouxcommunity-nsn.gov

6. Navajo Region

Navajo Regional Director, Navajo Regional Office, P.O. Box 1060, Gallup, NM 87305; Telephone Number: (505) 863-8314, Fax Number: (505) 863-8324.

Tribe | ICWA POC | Mailing address | Telephone No. | Fax No. | Email address
Navajo Nation, Arizona, New Mexico & Utah | Mary Deschenny-Reyna, ICWA Program Manager | Navajo Indian Child Welfare Act Program, P.O. Box 769, Saint Michaels, AZ 86511 | (928) 871-7006 | (928) 871-7604 | mdreyna@navajo-nsn.gov

7. Northwest Region

Northwest Regional Director, 911 NE 11th Ave., Portland, OR 97232; Telephone Number: (503) 231-6702; Fax Number (503) 231-2201.

Tribe | ICWA POC | Mailing address | Telephone No. | Fax No. | Email address
Burns Paiute Tribe | Karen Hunsucker, ICWA Specialist | 100 Pasigo Street, Burns, OR 97720 | (541) 573-8004 | (541) 573-4217 | Karen.Hunsucker@burnspaiute-nsn.gov
Coeur D'Alene Tribe | Marlene Sproul, ICW Program Manager | P.O. Box 408, 1120 B St., Plummer, ID 83851 | (208) 686-0675 | (208) 686-2059 | msproul@cdatribe-nsn.gov
Confederated Salish and Kootenai Tribes of the Flathead Reservation | Elizabeth Talbert, ICWA Caseworker | P.O. Box 278, 42487 Complex Blvd., Pablo, MT 59821 | (406) 675-2700 |  | elizabeth.talbert@cskt.org
Confederated Tribes and Bands of the Yakama Nation | Jessica Rammelsberg, Assistant Prosecutor | P.O. Box 151, 401 Fort Rd., Toppenish, WA 98948 | (509) 865-5121 |  | Jessica_Rammelsberg@yakama.com
Confederated Tribes of Siletz Indians of Oregon | Anita Bailor, Programs Manager 1 | P.O. Box 549, Siletz, OR 97380 | (541) 444-8220 | (541) 444-2307 | anitab@ctsi.nsn.us
Confederated Tribes of the Chehalis Reservation | Frances Pickernell, Director of Social Services | P.O. Box 536, 420 Howanut Rd., Oakville, WA 98568 | (360) 709-1754 | (360) 273-5207 | fpickernell@chehalistribe.org
Confederated Tribes of the Colville Reservation | Buffy Nicholson, Children and Family Services Director | P.O. Box 150, 21 Colville St., Nespelem, WA 99155 | (509) 634-2764 | (509) 634-2633 | buffy.nicholson@colvilletribes.com
Confederated Tribes of the Coos, Lower Umpqua and Siuslaw Indians | Shayne Platz and Iliana Montiel, Lead ICWA Case Mgr and Interim Director of Health and Human Services | 1245 Fulton Ave., Coos Bay, OR 97420 | (541) 297-3450 | (541) 304-2180 | splatz@ctclusi.org
Confederated Tribes of the Grand Ronde Community of Oregon | Donna Johnson, ICWA Intake | 9615 Grand Ronde Road, Grand Ronde, OR 97347 | (503) 879-4529 | (503) 879-2142 | donna.johnson@grandronde.org
Confederated Tribes of the Umatilla Indian Reservation | M. Brent Leonhard, Attorney | 46411 Timine Way, Pendleton, OR 97801 | (541) 429-7406 |  | brentleonhard@ctuir.org
Confederated Tribes of the Warm Springs Reservation of Oregon | Lisa Lomas and Cecelia Collins, Chief Judge and CPS Director | P.O. Box 850, Warm Springs, OR 97761 | (541) 553-3278 | (541) 553-3281 | lisa.lomas@wstribes.org
Coquille Indian Tribe | Roni Jackson, ICWA Caseworker | 600 Miluk Drive, P.O. Box 3190, Coos Bay, OR 97420 | (541) 888-9494 | (541) 888-0673 | ronijackson@coquilletribe.org
Cow Creek Band of Umpqua Tribe of Indians | Michele Moore, Human Services Director | 2371 NE Stephens Street, Suite 100, Roseburg, OR 97470 | (541) 643-8241 | (541) 677-5565 | mmoore@cowcreek-nsn.gov
Cowlitz Indian Tribe | Cowlitz Indian Tribe Attn: Tribal Attorney | P.O. Box 996, Ridgefield, WA 98642 | (360) 957-8876 |  | sbagheri@cowlitz.org
Hoh Indian Tribe | Kristina Currie | P.O. Box 2196, Forks, WA 98331 | (360) 374-6502 | (360) 374-5426 | kristina.currie@hohtribe-nsn.org
Jamestown S'Klallam Tribe | Tanya Pankowski, ICW Case Manager | Social and Community Services, 1033 Old Blyn Hwy., Sequim, WA 98382 | (360) 681-4639 | (360) 681-3402 | tpankowski@jamestowntribe.org
Kalispel Indian Community of the Kalispel Reservation | Shawna Brady, MSW | 934 S Garfield Road, Airway Heights, WA 99001 | (509) 789-7630 | (509) 789-7675 | sbrady@camashealth.com
Klamath Tribes | Lisa Ruiz, Children & Family Service Program Manager | P.O. Box 436, Chiloquin, OR 97624 | (541) 783-2219 | (541) 783-7783 | Lisa.ruiz@klamathtribes.com
Kootenai Tribe of Idaho | Desire Aitken, Treasurer | P.O. Box 1269, Bonners Ferry, ID 83805 | (208) 267-3519 | (208) 267-2960 | desire@kootenai.org
Lower Elwha Tribal Community | Vashti White, ICW Program Manager | 3080 Lower Elwha Road, Port Angeles, WA 98363 | (360) 912-4210 | (866) 277-3141 | elwhaicw@elwha.org
Lummi Tribe of the Lummi Reservation | Denise Jefferson, ICWA Manager | P.O. Box 1024, Ferndale, WA 98248 | (360) 384-2324 | (360) 384-2341 | denisej@lummi-nsn.gov
Makah Indian Tribe of the Makah Indian Reservation | Crysandra Sones, Lead Caseworker | P.O. Box 115, Neah Bay, WA 98357 | (360) 645-3270 | (360) 645-2806 | crysandra.sones@makah.com
Muckleshoot Indian Tribe | Alexandria Cruz-James, Director of Human Services | 39015 172nd Avenue SE, Auburn, WA 98092 | (253) 876-3261 | (253) 876-3061 | alex.cruz@muckleshoot.nsn.us
Nez Perce Tribe | Rebecca Lehman/Jackie McArthur, Director of Indian Child Welfare/Social Services Manager | 326 Agency Rd., P.O. Box 365, Lapwai, ID 83540 | (208) 621-4666 | (208) 843-9401 | rebeccal@nezperce.org
Nisqually Indian Tribe | Norine Wells, Social Services Director | 4820 She- Nah-Num Drive SE, Olympia, WA 98513 | (360) 456-5221 | (360) 486-9555 | wells.norine@nisqually-nsn.gov
Nooksack Indian Tribe | Katrice Rodriguez, Youth & Family Services Director | P.O. Box 157, Deming, WA 98244 | (360) 306-5090 | (360) 592-0167 | krodriguez@nooksack-nsn.gov
Northwestern Band of the Shoshone Nation | Patty Timbimboo-Madsen, ICWA Manager | Enrollment Department, 2575 Commerce Way, Odgen, UT 84401 | (435) 734-2286 |  | ptimbimboo@nwbshoshone.com
Port Gamble S'Klallam Tribe | Cheryl Miller, Children and Family Services Director | 31912 Little Boston Road NE, Kingston, WA 98346 | (360) 297-9665 | (360) 297-9666 | cmiller@pgst.nsn.us
Puyallup Tribe of the Puyallup Reservation | Sandra Cooper and Marriah Betschart, ICW Tribal/State Liaison/ICWA Liaison | 3009 E Portland Avenue, Tacoma, WA 98404 | (253) 405-7544 | (253) 680-5998 |
Quileute Tribe of the Quileute Reservation | Charlene Meneely, ICW Program Manager | P.O. Box 279, LaPush, WA 98350 | (360) 640-2428 |  | charlene.meneely@quileutetribe.com
Quinault Indian Nation | Amelia DeLaCruz, Social Services Manager | P.O. Box 189, Taholah, WA 98587 | (360) 276-8215 | (360) 276-4152 | icw@quinault.org
Samish Indian Nation | Caritina Gonzalez, Social Services Director | Samish Nation Social Services, 715 Seafarer's Way, Suite 103, Anacortes, WA 98221 | (360) 298-6431 | (360) 299-4357 | cgonzalez@samishtribe.nsn.us
Sauk-Suiattle Indian Tribe | April McConnaughy, ICW Family Services Specialist | 5318 Chief Brown Lane, Darrington, WA 98241 | (360) 436-2204 |  | icw@sauk-suiattle.com
Shoalwater Bay Indian Tribe of the Shoalwater Bay Indian Reservation | Kathirine Horne, Director | P.O. Box 130, Tokeland, WA 98590 | (360) 267-8134 | (360) 267-0247 | khorne@shoalwaterbay-nsn.gov
Shoshone-Bannock Tribes of the Fort Hall Reservation | Malissa Poog/Cheri Outcelt, Shoshone-Bannock Tribal Social Services Child Welfare Program | P.O. Box 306, Fort Hall, ID 83203 | (208) 478-3731 | (208) 237-9736 | Malissa.poog@sb-thhs.com
Skokomish Indian Tribe | Shawna Hill, ICW Supervisor | 100 N Tribal Center Road, Skokomish, WA 98584 | (360) 426-5755 | (360) 877-2399 | shawna@skokomish.org
Snoqualmie Indian Tribe | Carlee Gorman, Snoqualmie Indian Child Welfare Program Manager | P.O. Box 969, Snoqualmie, WA 98065 | (425) 368-9571 | (425) 689-1272 | carlee@snoqualmietribe.us
Spokane Tribe of the Spokane Reservation | Ricki Peone & Tawhnee Colvin, Health & Human Services Director, Health & Human Services Assistant Director | P.O. Box 540, 6228 E Old School Road, Wellpinit, WA 99040 | (509) 258-7502 | (509) 258-4480 | ricki.peone@spokanetribe.com
Squaxin Island Tribe of the Squaxin Island Reservation | Charlene Abrahamson and Lyssa Wier, Family Services Director and ICW Manager | 10 SE Squaxin Lane, Shelton, WA 98584 | (360) 432-3914 | (360) 427-2652 | cabrahamson@squaxin.us
Stillaguamish Tribe of Indians of Washington | Virginia Smith, Enrollment Clerk | P.O. Box 277, 17014 59th Ave. NE, Arlington, WA 98223 | (360) 652-7362 | (877) 493-3074 | icw@stillaguamish.com
Suquamish Indian Tribe of the Port Madison Reservation | Nehreen Ayub, Interim Tribal Child Welfare Director | P.O. Box 498, Suquamish, WA 98392 | (360) 394-8479 | (360) 697-6774 | nayub@suquamish.nsn.us
Swinomish Indian Tribal Community | Tracy Parker, Swinomish Family Services Coordinator | 17337 Reservation Rd., LaConner, WA 98257 | (360) 466-7222 | (360) 466-1632 | tparker@swinomish.nsn.us
Tulalip Tribes of Washington | Natasha Fryberg & Sara Fitzpatrick, Manager and Lead ICW Worker | 2828 Mission Hill Road, Tulalip, WA 98271 | (360) 716-4059 | (360) 716-0750 | nfryberg@tulaliptribes-nsn.gov
Upper Skagit Indian Tribe | Felice Keegahn, Indian Child Welfare Coordinator | 25944 Community Plaza Way, Sedro Woolley, WA 98284 | (360) 854-7077 | (360) 854-7125 | felicek@upperskagit.com

8. Pacific Region

Pacific Regional Director, BIA, Federal Building, 2800 Cottage Way, Room W-2820, Sacramento, CA 95825; Telephone Number: (916) 978-6000; Fax Number: (916) 978-6055.

Tribe | ICWA POC | Mailing address | Telephone No. | Fax No. | Email address
Agua Caliente Band of Cahuilla Indians of the Agua Caliente Indian Reservation, California | Jeff Grubbe, Chairman | 5401 Dinah Shore Drive, Palm Springs, CA 92264 | (760) 699-6919 | (760) 699-6863 | jplata@aguacaliente.net
Alturas Indian Rancheria, California | Phillip Del Rosa | P.O. Box 340, Alturas, CA 96101 | (541) 941-2324 | (530) 223-4165 | air530@yahoo.com
Augustine Band of Cahuilla Indians, California | Heather Haines, Tribal Operations Manager | P.O. Box 846, Coachella, CA 92236 | (760) 398-4722 | (760) 368-4252 | hhaines@augustinetribe.com
Bear River Band of the Rohnerville Rancheria, California | Josefina Cortez, Chairwoman | 266 Keisner Rd., Loleta, CA 95551 | (707) 502-8731 | (707) 875-7229 | josefinacortez@brb-nsn.gov
Berry Creek Rancheria of Maidu Indians of California | Maria Ramirez, ICWA Director & Tribal Representative | 5 Tyme Way, Oroville, CA 95966 | (530) 534-3859 | (530) 534-0343 | mramirez@berrycreekrancheria.com
Big Lagoon Rancheria, California | Virgil Moorehead, Chairperson | P.O. Box 3060, Trinidad, CA 95570 | (707) 826-2079 | (707) 826-0495 | vmoorehead@earthlink.net
Big Pine Paiute Tribe of the Owens Valley | Cheryl Levine, Tribal Administrator | P.O. Box 700, 825 S Main St., Big Pine, CA 93513 | (760) 938-2003 | (760) 938-2942 | c.levine@bigpinepaiute.org
Big Sandy Rancheria of Western Mono Indians of California | Tamara Hiebert, ICWA Representative | P.O. Box 337, Auberry, CA 93602 | (559) 374-0066 |  | bsricwa@bsrnation.com
Big Valley Band of Pomo Indians of the Big Valley Rancheria, California | ICWA Representative | ICWA, 2726 Mission Rancheria Road, Lakeport, CA 95453 | (707) 263-3924 | (707) 533-2941 | resparza@big-valley.net
Bishop Paiute Tribe | Tammy Andrade, ICWA Specialist | 50 TuSu Lane, Bishop, CA 93514 | (760) 873-7799 | (760) 873-3529 | tammy.andrade@bishoppaiute.org
Blue Lake Rancheria, California | Claudia Brundin, Chairperson | P.O. Box 428, Blue Lake, CA 95525 | (707) 668-5101 | (707) 668-4272 | lalbright@bluelakerancheria-nsn.gov
Bridgeport Indian Colony | John Glazier, Tribal Chair | 355 Sage Brush Drive, Bridgeport, CA 93517 | (760) 932-7083 | (760) 932-7846 | chair@bridgeportindiancolony.com
Buena Vista Rancheria of Me-Wuk Indians of California | Christina Pimental, Receptionist | 1418 20th Street, Suite 200, Sacramento, CA 95811 | (916) 491-0011 | (916) 491-0012 | christina@BuenaVistaTribe.com
Cabazon Band of Mission Indians, California | Doug Welmas, Chairman | 84-245 Indio Springs Parkway, Indio, CA 92203 | (760) 342-2593 | (760) 347-7880 | nmarkwardt@cabazonindians-nsn.gov
Cachil DeHe Band of Wintun Indians of the Colusa Indian Community of the Colusa Rancheria, California | Yvonne Page, Counselor | 3730 Highway 45, Colusa, CA 95932 | (530) 458-6571 | (530) 458-8061 | ypage@colusa-nsn.gov
Cahto Tribe of the Laytonville Rancheria | Mary J. Norris, Chairperson | P.O. Box 1239, Laytonville, CA 95454 | (707) 984-6197 | (707) 984-6201 | chairman@cahto.org
Cahuilla Band of Indians | Lisa Mariano, Social Worker | 52701 Hwy. 371, Anza, CA 92539 | (951) 795-8672 | (951) 763-2808 | Socialworker@cahuilla.net
California Valley Miwok Tribe, California | DOI/Bureau of Indian Affairs | Pacific Regional Office, 2800 Cottage Way, Rm. W-2820, Sacramento, CA 95825 | (916) 978-6000 | (916) 978-6099 |
Campo Band of Diegueno Mission Indians of the Campo Indian Reservation, California | Indian Child Social Services Director, Indian Child Social Services Director | 4058 Willow Road, Alpine, CA 91901 | (619) 445-1188 | (619) 659-3144 |
Capitan Grande Band of Diegueno Mission Indians of California (Barona Group of Capitan Grande Band of Mission Indians of the Barona Reservation, California; Viejas (Barona Long) Group of Capitan Grande Band of Mission Indians of the Viejas Reservation, California) | Southern Indian Health Council | 4058 Willow Road, Alpine, CA 91901 | (619) 445-1188 | (619) 659-9782 | gsutton@sihc.org
Cedarville Rancheria, California | Richard Lash, Chairperson | 300 West 1st Street, Alturas, CA 96101 | (530) 233-3969 | (530) 233-4776 | cr.munholand@gmail.com
Cher-Ae Heights Indian Community of the Trinidad Rancheria, California | Angela Sundberg, Social Services Director | P.O. Box 630, Trinidad, CA 95570 | (707) 677-0211 | (707) 677-3921 | asundberg@trinidadrancheria.com
Chicken Ranch Rancheria of Me-Wuk Indians of California | Lloyd Mathiesen, Chairman | P.O. Box 1159, Jamestown, CA 95327 | (209) 984-9066 | (209) 984-5606 | chixrnch@mlode.com
Cloverdale Rancheria of Pomo Indians of California | Patricia Mermosillo, Chairperson | 555 S Cloverdale Blvd., Cloverdale, CA 95425 | (707) 894-5775 | (707) 894-5727 |
Cold Springs Rancheria of Mono Indians of California | Helena Alarcon, Chairperson | P.O. Box 209, Tollhouse, CA 93667 | (559) 855-5043 | (559) 855-4445 |
Coyote Valley Band of Pomo Indians of California | Liz Elgin DeRouen, Executive Director | 2525 Cleveland Ave., Suite H, Santa Rosa, CA 95403 | (707) 463-2644 | (707) 463-8956 | liz@icfpp.net
Dry Creek Rancheria Band of Pomo Indians, California | Liz Elgin DeRouen, Executive Director | 2525 Cleveland Avenue, Suite H, Santa Rosa, CA 95403 | (707) 463-2644 | (707) 463-8956 | liz@icfppp.net
Elem Indian Colony of Pomo Indians of the Sulphur Bank Rancheria, California | Augustin Garcia, Chairperson | P.O. Box 757, Lower Lake, CA 95457 | (707) 994-3400 | (707) 994-3408 | a.garcia@elemindiancolony.org
Elk Valley Rancheria, California | Dale Miller, Chairman | 2332 Howland Hill Rd., Crescent City, CA 95531 | (707) 464-4680 | (707) 464-4519 | swoods@elk-valley.com
Enterprise Rancheria of Maidu Indians of California | Shari Ghalayini, ICWA Representative | 2133 Montevista Ave, Oroville, CA 95966 | (530) 532-9214 | (530) 532-1768 | sharig@enterpriserancheria.org
Ewiiaapaayp Band of Kumeyaay Indians, California | Indian Child Social Services Director | Southern Indian Health Council, Inc., 4058 Willows Road, Alpine, CA 91901 | (619) 445-1188 | (619) 659-3144 |
Federated Indians of Graton Rancheria, California | Greg Sarris, Chairman | 6400 Redwood Drive—Suite 300, Rohnert Park, CA 94928 | (707) 566-2288 | (707) 566-2291 |
Fort Bidwell Indian Community of the Fort Bidwell Reservation of California | Kevin Dean Townsend, Chairman | P.O. Box 129, Fort Bidwell, CA 96112 | (530) 279-6310 | (530) 279-2233 | liz.zendejas@fbicc.com
Fort Independence Indian Community of Paiute Indians of the Fort Independence Reservation, California | Norman Wilder, Chairperson | P.O. Box 67 or 131 North Hwy. 395, Independence, CA 93526 | (760) 878-5160 | (760) 878-2311 | receptionist@fortindependence.com
Greenville Rancheria | Patty Allen, ICWA Coordinator | P.O. Box 279, Greenville, CA 95947 | (530) 284-7990 | (530) 284-7299 | pallen@greenvillerancheria.com
Grindstone Indian Rancheria of Wintun-Wailaki Indians of California | Ronald Kirk, Chairman | ICWA, P.O. Box 63, Elk Creek, CA 95939 | (530) 968-5365 | (530) 968-5366 | girrancheria@yahoo.com
Guidiville Rancheria of California | Merlene Sanchez, Tribal Chairperson | P.O. Box 339, Talmage, CA 95481 | (707) 462-3682 | (707) 462-9183 | admin@guidiville.net
Habematolel Pomo of Upper Lake, California | Sherry Treppa, Chairperson | 375 E Hwy. 20—Suite I, P.O. Box 516, Upper Lake, CA 95485 | (707) 275-0737 | (707) 275-0757 | aarroyosr@hpultribe-nsn.gov
Hoopa Valley Tribe, California | Joe Davis, Chairperson | P.O. Box 1348, Hoopa, CA 95546 | (530) 625-4211 | (530) 625-4594 | hoopa.receptionist@gmail.com
Hopland Band of Pomo Indians, California | Josephine Loomis, ICWA Social Case Manager | 3000 Shanel Rd., Hopland, CA 95449 | (707) 472-2100 | (707) 744-8643 | jloomis@hoplandtribe.com
Iipay Nation of Santa Ysabel, California | Social Services Director | Santa Ysabel Social Services Dept., P.O. Box 701, Santa Ysabel, CA 92070 | (760) 765-1106 | (760) 765-0312 | lipayinfo@yahoo.com
Inaja Band of Diegueno Mission Indians of the Inaja and Cosmit Reservation, California | Social Services Manager | Indian Health Council, Inc., P.O. Box 406, Pauma Valley, CA 92061 | (760) 749-1410 | (760) 749-5518 | kkolb@indianhealth.com
Ione Band of Miwok Indians of California | Sara A. Dutschke, Chairperson | P.O. Box 699, Plymouth, CA 95669 | (209) 245-5800 | (209) 245-6377 |
Jackson Band of Miwuk Indians | Adam Dalton, Chairperson | P.O. Box 1090, Jackson, CA 95642 | (209) 223-1935 | (209) 223-5366 | mmorla@jacksoncasino.com
Jamul Indian Village of California | Indian Child Social Services Director | Southern Indian Health Council, Inc., 4058 Willow Rd., Alpine, CA 91901 | (619) 445-1188 | (619) 659-3144 |
Karuk Tribe | Joseph E. Snapp, MSW, LCSW, Karuk Child Welfare Administrator | P.O. Box 1207, 1519 S Oregon Street, Yreka, CA 96097 | (530) 841-3141 | (503) 841-7107 | joesnapp@karuk.us
Kashia Band of Pomo Indians of the Stewarts Point Rancheria, California | Liz Elgin DeRouen, Executive Director | 2525 Cleveland Avenue, Suite H, Santa Rosa, CA 95403 | (707) 463-2644 | (707) 463-8956 | liz@icfpp.net
Kletsel Dehe Band of Wintun Indians | Charlie Wright, Chairperson | P.O. Box 1630, Williams, CA 95987 | (530) 473-3274 | (530) 473-3301 | cww281@gmail.com
Koi Nation of Northern California | Darin Beltran, Chairperson | P.O. Box 3162, Santa Rosa, CA 95402 | (707) 575-5586 | (707) 575-5506 |
La Jolla Band of Luiseno Indians, California | Social Services Manager | Indian Health Council, Inc., P.O. Box 406, Pauma Valley, CA 92061 | (760) 749-5518 | (707) 749-5518 | kkolb@indianhealth.com
La Posta Band of Diegueno Mission Indians of the La Posta Indian Reservation, California | Indian Child Social Services Director | Southern Indian Health Council Inc., 4058 Willow Rd., Alpine, CA 91901 | (619) 445-1188 | (619) 659-3144 |
Lone Pine Paiute-Shoshone Tribe | Richard Button & Kathy Brancroft, Chairperson & Enrollment Committee Chairperson | P.O. Box 747, Lone Pine, CA 93545 | (760) 876-1034 | (760) 876-4500 | chair@lppsr.org
Los Coyotes Band of Cahuilla and Cupeno Indians, California | Social Services Manager | Indian Health Council, Inc., P.O. Box 406, Pauma Valley, CA 92061 | (760) 749-1410 | (760) 749-5518 | kkolb@indianhealth.com
Lytton Rancheria of California | Liz Elgin DeRouen, Executive Director | 2525 Cleveland Avenue, Suite H, Santa Rosa, CA 95403 | (707) 463-2644 | (707) 463-8956 | liz@icfpp.net
Manchester Band of Pomo Indians of the Manchester Rancheria, California | Liz Elgin DeRouen, Executive Director | 2525 Cleveland Avenue, Suite H, Santa Rosa, CA 95403 | (707) 463-2644 | (707) 463-8956 | liz@icfpp.net
Manzanita Band of Diegueno Mission Indians of the Manzanita Reservation, California | Angela Elliott-Santos, Chairperson | P.O. Box 1302, Boulevard, CA 91905 | (619) 766-4930 | (619) 766-4957 | ljbirdsinger@aol.com
Mechoopda Indian Tribe of Chico Rancheria, California | Dennis Ramirez, Chairman | 125 Mission Ranch Boulevard, Chico, CA 95926 | (530) 899-8922 | (530) 899-8517 | mit@mechoopda-nsn.gov
Mesa Grande Band of Diegueno Mission Indians of the Mesa Grande Reservation, California | Social Services Manager | Indian Health Council, Inc., P.O. Box 406, Pauma Valley, CA 92061 | (760) 749-1410 | (760) 749-5518 | kkolb@indianhealth.com
Middletown Rancheria of Pomo Indians of California | Marty Comito, ICWA Director | P.O. Box 1035, Middletown, CA 95461 | (707) 987-8288 | (707) 987-9091 | mcomito@middletownrancheria.com
Mooretown Rancheria of Maidu Indians of California | Benjamin Clark, Chairman | 1 Alverda Drive, Oroville, CA 95966 | (530) 533-3625 | (530) 533-3680 | lwinner@mooretown.org
Morongo Band of Mission Indians, California | Legal Department | 12700 Pumarra Road, Banning, CA 92220 | (951) 572-6016 | (951) 572-6108 | legal@morongo-nsn.gov
Northfork Rancheria of Mono Indians of California | Elaine Bethel Fink & Tawanish Lavell, Chairperson & ICWA Representative | P.O. Box 929, North Fork, CA 93643 | (559) 877-2461 | (559) 877-2467 | nfrancheria@northforkrancheria-nsn.gov
Pala Band of Mission Indians | Robert Smith, Chairman | 35008 Pala-Temecula Road—PMB-50, Pala, CA 92059 | (760) 891-3500 | (760) 891-3587 | morozco@palatribe.com
Paskenta Band of Nomlaki Indians of California | Natasha Magana, Tribal Member at Large | P.O. Box 709, Corning, CA 96021 | (530) 528-3538 | (530) 528-3553 | office@paskenta.org
Pauma Band of Luiseno Mission Indians of the Pauma & Yuima Reservation, California | Social Services Manager | Indian Health Council, Inc., P.O. Box 406, Pauma Valley, CA 92061 | (760) 749-1410 | (760) 749-5518 | kkolb@indianhealth.com
Pechanga Band of Indians | Mark Macarro, Chairman | P.O. Box 1477, Temecula, CA 92593 | (951) 770-6105 | (951) 695-1778 | cfs@pechanga-nsn.gov
Picayune Rancheria of Chukchansi Indians of California | Orianna C. Walker, ICWA Coordinator | P.O. Box 2146, Oakhurst, CA 93644 | (559) 412-5590 | (559) 440-6494 | orianna.walker@chukchansi.net
Pinoleville Pomo Nation, California | Clayton Freeman, ICWA Coordinator | 500 B Pinoleville Drive, Ukiah, CA 95482 | (707) 463-1454 | (707) 463-6601 | claytonf@pinoleville-nsn.gov
Pit River Tribe, California | Percy Tejada, ICWA Coordinator | 36970 Park Avenue, Burney, CA 96013 | (530) 335-5421 | (530) 335-3140 | icwa@pitrivertribe.org
Potter Valley Tribe, California | Salvador Rosales, Chairman | 2251 South State Street, Ukiah, CA 95482 | (707) 462-1213 | (707) 462-1240 | pottervalleytribe@pottervalleytribe.com
Quartz Valley Indian Community of the Quartz Valley Reservation of California | Conrad Croy, ICWA Director | 13601 Quartz Valley Rd., Fort Jones, CA 96032 | (530) 468-5907 | (530) 468-5908 | Conrad.Croy@qvir-nsn.gov
Ramona Band of Cahuilla, California | Joseph Hamilton, Chairman | P.O. Box 391670, Anza, CA 92539 | (951) 763-4105 | (951) 763-4325 |
Redding Rancheria, California | Jack Potter, Jr., Chairman | 2000 Redding Rancheria Road, Redding, CA 96001 | (530) 225-8979 |  | hopew@redding-rancheria.com
Redwood Valley or Little River Band of Pomo Indians of the Redwood Valley Rancheria California | Chris Piekarski, ICWA Coordinator | 3250 Road I “B” Building, Redwood Valley, CA 95470 | (707) 485-0361 | (707) 485-5726 | icwa@rvrpomo.net
Resighini Rancheria, California | Fawn Murphy, Chairperson | P.O. Box 529, Klamath, CA 95548 | (707) 482-2431 | (707) 482-3425 | fawn.murphy@resighinirancheria.com
Rincon Band of Luiseno Mission Indians of the Rincon Reservation, California | Social Services Manager | Indian Health Council, Inc., P.O. Box 406, Pauma Valley, CA 92061 | (760) 749-1410 | (760) 749-5518 | kkolb@indianhealth.com
Robinson Rancheria | Marsha Lee, ICWA Coordinator | P.O. Box 4015, Nice, CA 95464 | (707) 900-1456 | (707) 275-0235 |
Round Valley Indian Tribes, Round Valley Reservation, California | James Russ, President | 77826 Covelo Road, Covelo, CA 95428 | (707) 983-6126 | (707) 983-6128 | president@council.rvit.org
San Pasqual Band of Diegueno Mission Indians of California | Social Services Manager | Indian Health Council, Inc., P.O. Box 406, Pauma Valley, CA 92061 | (760) 749-1410 | (760) 749-5518 | kkolb@indianhealth.com
Santa Rosa Band of Cahuilla Indians, California | Steven Estrada, Chairperson | P.O. Box 391820, Anza, CA 92539 | (951) 659-2700 | (951) 689-2228 | srtribaloffice@aol.com
Santa Rosa Indian Community of the Santa Rosa Rancheria, California | Luz M. Rodrigues (Primary) and Leo Sisco (Secondary), Tribal Social Services Director/Tribal Chairman | P.O. Box 8, 16835 Alkali Drive, Lemoore, CA 93245 | (559) 924-1278 | (559) 925-2947 | lrodrigues@tachi-yokut-nsn.gov
Santa Ynez Band of Chumash Mission Indians of the Santa Ynez Reservation, California | Caren Romero, ICWA | 90 Via Juana Lane, Santa Ynez, CA 93460 | (805) 688-7997 | (805) 686-9578 | cromero@sythc.org
Scotts Valley Band of Pomo Indians of California | Kathy Russ, ICWA Advocate | 1005 Parallel Drive, Lakeport, CA 95453 | (707) 263-4220 | (707) 263-4345 |
Sherwood Valley Rancheria of Pomo Indians of California | Melanie Rafanan and Travis Wright, Tribal Chairperson and ICWA Advocate | 190 Sherwood Hill Drive, Willits, CA 95490 | (707) 459-9690 | (707) 459-6936 | mrafanan@sherwoodband.com
Shingle Springs Band of Miwok Indians, Shingle Springs Rancheria (Verona Tract), California | Regina Cuellar, Chairwoman | P.O. Box 1340, Shingle Springs, CA 95682 | (530) 698-1400 | (530) 384-8064 | tribalchairperson@ssband.org
Soboba Band of Luiseno Indians, California | Alicia Golchuk, Director of Soboba Tribal Family Services | Soboba Tribal Family Services Dept., P.O. Box 487, San Jacinto, CA 92581 | (951) 487-0283 | (951) 487-1738 | agolchuk@soboba-nsn.gov
Susanville Indian Rancheria, California | Arian Hart, Tribal Chairwoman | 745 Joaquin St., Susanville, CA 96130 | (530) 257-6264 | (530) 257-7986 | ahart@sir-nsn.gov
Sycuan Band of the Kumeyaay Nation | Cody Martinez, Chairman | 1 Kwaaypaay Court, El Cajon, CA 92019 | (619) 445-2613 | (619) 445-1927 |
Table Mountain Rancheria | Leanne Walker-Grant, Chairperson | P.O. Box 410, Friant, CA 93626 | (559) 822-2587 | (559) 822-2693 |
Tejon Indian Tribe | Octavio Escobedo, Chairperson | 1731 Hasti Acres, Suite 108, Bakersfield, CA 93309 | (661) 834-8566 | (661) 834-8564 | office@tejontribe.net
Timbisha Shoshone Tribe | Wallace Eddy, ICWA Representative | 621 West Line Street, Suite 109, Bishop, CA 93514 | (760) 872-3614 | (760) 872-3670 | icwa@timbisha.com
Tolowa Dee-ni' Nation | Dorothy Wait, CFS Director | Community & Family Services, 16299 HWY 101N, Smith River, CA 95567 | (707) 487-9255 | (707) 487-0137 | dwait@tolowa.com
Torres Martinez Desert Cahuilla Indians, California | Thomas Tortez, Chairman | TMDCI 66-725 Martinez Rd., P.O. Box 1160, Thermal, CA 92274 | (760) 397-0300 | (760) 397-8300 | thomas.tortez@torresmartinez-nsn.gov
Tule River Indian Tribe of the Tule River Reservation, California | Neil Peyron, Chairman | 340 North Reservation Road, P.O. Box 589, Porterville, CA 93258 | (559) 781-4271 | (559) 781-4610 | Neil.Peyron@tulerivertribe-nsn.gov
Tuolumne Band of Me-Wuk Indians of the Tuolumne Rancheria of California | Diane Carpenter, LMFT, ICWA Representative/Supervisor, Social Services Department | P.O. Box 699, Tuolumne, CA 95379 | (209) 928-5327 | (209) 928-1552 | diana@mewuk.com
Twenty-Nine Palms Band of Mission Indians of California | Darrel Mike, Spokesman | 46-200 Harrison Place, P.O. Box 2269, Coachella, CA 92236 | (760) 863-2444 | (760) 863-2449 |
Utu Utu Gwaitu Paiute Tribe of the Benton Paiute Reservation, California | Shane Salque, Chairman | 25669 Hwy. 6, PMB 1, Benton, CA 93512 | (760) 933-2321 | (760) 933-2412 | shanesalque@hotmail.com
United Auburn Indian Community of the Auburn Rancheria of California | Gene Whitehouse, Chairman | 10720 Indian Hill Road, Auburn, CA 95603 | (530) 883-2390 | (530) 833-2380 | jbeck@auburnrancheria.com
Wilton Rancheria, California | Vanessa Pady, Director | ICWA, 9728 Kent Street, Elk Grove, CA 95624 | (916) 683-6000 | (916) 683-6015 | vpady@wiltonrancheria-nsn.gov
Wiyot Tribe, California | Theodore Hernandez, Chairperson | 1000 Wiyot Drive, Loleta, CA 95551 | (707) 733-5055 | (707) 733-5601 | michelle@wiyot.us
Yocha Dehe Wintun Nation, California | James Kinter, Tribal Council Secretary | P.O. Box 18, Brooks, CA 95606 | (530) 796-3400 | (530) 796-2143 | djones@yochadehe-nsn.gov
Yuhaaviatam of San Manuel Nation | Tribal Secretary | 26569 Community Center Drive, Highland, CA 92346 | (909) 864-8933 | (909) 864-0890 | broberson@sanmanual-nsn.gov
Yurok Tribe of the Yurok Reservation, California | Jessica Fawn Canez, Child and Family Indian Child Welfare Director | P.O. Box 1027, Klamath, CA 95548 | (707) 482-1350 | (707) 482-1368 | YurokICWA@yuroktribe.nsn.us

9. Rocky Mountain Region

Rocky Mountain Regional Director, 2021 4th Ave. N, Billings, MT 59101; Telephone Number: (406) 247-7943; Fax Number: (406) 247-7976.

Tribe | ICWA POC | Mailing address | Telephone No. | Fax No. | Email address
Assiniboine and Sioux Tribes of the Fort Peck Indian Reservation, Montana | Ingrid Firemoon, ICWA Coordinator | P.O. Box 1027, Poplar, MT 59255 | (406) 768-2308 | (406) 768-5658 | ifiremoon@fortpecktribes.net
Blackfeet Tribe of the Blackfeet Indian Reservation of Montana | Kathy Calf Boss Ribs, ICWA Coordinator | P.O. Box 588, Browning, MT 59417 | (406) 338-5171 | (406) 338-7726 | kathybossribs@yahoo.com
Chippewa Cree Indians of the Rocky Boy's Reservation, Montana | Shaneen Raining Bird Hammond, ICWA Case Manager | 96 Clinic Road No., Box Elder, MT 59521 | (406) 395-5506 |  | icwa@chippewa-cree.org
Crow Tribe of Montana | Rebecca Buffalo, ICWA Contact | P.O. Box 340, Crow Agency, MT 59022 | (406) 679-2950 |  | Rebecca.buffalo@crow-nsn.gov
Eastern Shoshone Tribe of the Wind River Reservation, Wyoming | Sara Robinson, ICWA Director | P.O. Box 538, Fort Washakie, WY 82514 | (307) 335-2013 | (307) 332-0280 | srobinson@easternshoshone.org
Fort Belknap Indian Community of the Fort Belknap Reservation of Montana | Myron L. Trottier, ICWA Case Manager | 656 Agency Main Street, Harlem, MT 59526 | (406) 353-8328 | (406) 353-4634 | mtrottier@ftbelknap.org
Little Shell Tribe of Chippewa Indians of Montana | Donna Woodward, ICWA Attorney | 511 Central Ave. West, Great Falls, MT 59404 | (406) 315-2400 | (406) 315-2400 | d.woodward@lstribe.org
Northern Arapaho Tribe of the Wind River Reservation, Wyoming | Shelley Mbonu, ICWA Director | P.O. Box 951, Riverton, WY 82501 | (307) 335-3957 | (307) 240-2256 | shelley.mbonu@northernarapaho.com
Northern Cheyenne Tribe of the Northern Cheyenne Indian Reservation, Montana | Michelle Little Wolf, ICWA Coordinator I | P.O. Box 128, Lame Deer, MT 59043 | (406) 477-4830 | (406) 477-8333 | michelle.littlewolf@cheyennenation.com

10. Southern Plains Region

Southern Plains Regional Director, P.O. Box 368, Anadarko, OK 73005; Telephone Number: (405) 247-6673 Ext. 217; Fax Number (405) 247-5611.

Tribe | ICWA POC | Mailing address | Telephone No. | Fax No. | Email address
Absentee-Shawnee Tribe of Indians of Oklahoma | Melissa Hill, ICW Director | 2025 S Gordon Cooper Drive, Shawnee, OK 74801 | (405) 395-4492 | (405) 395-4495 | mhill@astribe.com
Alabama-Coushatta Tribe of Texas | Melissa Celestine, ICW Director | 571 State Park Road, #56, Livingston, Texas 77351 | (936) 563-1253 | (936) 563-1254 | celestine.melissa@actribe.org
Apache Tribe of Oklahoma | ICW Director, Apache ICW Worker | P.O. Box 9, Carnegie, Oklahoma 73015 | (580) 654-6340 |  | icw@kiowatribe.org
Caddo Nation of Oklahoma | Kalina Youngman, ICW Caseworker | P.O. Box 729, Anadarko, OK 73005 | (405) 247-8624 |  | kalina.youngman@wichitatribe.com
Cheyenne and Arapaho Tribes, Oklahoma | Ephram Kelly, ICW Coordinator | P.O. Box 27, Concho, OK 73022 | (405) 422-7557 | (405) 422-8249 | rfelter@c-a-tribes.org
Citizen Potawatomi Nation, Oklahoma | Ashley May, ICW Director | 1601 S Gordon Cooper Drive, Shawnee, OK 74801 | (405) 878-4831 | (405) 878-4659 | amay@potawatomi.org
Comanche Nation, Oklahoma | Evelyn Mithlo-Turner, ICW Director | P.O. Box 908, Lawton, OK 73502 | (580) 280-4751 | (580) 280-4751 | carolm@comanchenation.com
Delaware Nation, Oklahoma | Cassandra Acuna, ICW Director | P.O. Box 825, Anadarko, OK 73005 | (405) 247-2448 | (405) 247-5942 | cacuna@delawarenation.com
Fort Sill Apache Tribe of Oklahoma | ICWA Coordinator | 43187 US Highway 281, Apache, OK 73006 | (580) 588-2298 | (580) 588-3133 | brian.wahnee@fortsillapache-nsn.gov
Iowa Tribe of Kansas and Nebraska | Native American Family Services, Inc | 3303 B. Thrasher Rd., White Cloud, KS 66094 | (785) 595-3260 |  |
Iowa Tribe of Oklahoma | Tamera Hudgins, ICW Director | Rt. 1, Box 721, Perkins, OK 74059 | (405) 547-2402 | (405) 547-1060 | thudgins@iowanation.org
Kaw Nation, Oklahoma | Lebrandia Lamley, ICW Director | Drawer 50, Kaw City, Oklahoma 74641 | (580) 269-2003 | (580) 269-2113 | llemley@kawnation.com
Kickapoo Traditional Tribe of Texas | ICWA Director, ICW Director | 2212 Rosita Valley Road, Eagle Pass, Texas 78852 | (830) 421-6300
Kickapoo Tribe of Indians of the Kickapoo Reservation in Kansas | ICWA | 824 111th Dr., Horton, KS 66439 | (785) 486-2131
Kickapoo Tribe of Oklahoma | Nathie Wallace, Indian Child Welfare Director | P.O. Box 469, McLoud, OK 74851 | (405) 964-5426 | (405) 964-5431 |
Kiowa Indian Tribe of Oklahoma | Davetta Geimausaddle, ICW Director | P.O. Box 369, Carnegie, Oklahoma 73015 | (580) 654-2439 | (580) 654-2363 | ICW@kiowatribe.org
Otoe-Missouria Tribe of Indians, Oklahoma | Andrea Kihega, Social Services Director | 8151 Highway 177, Red Rock, OK 74651 | (580) 723-4466 | (580) 723-1016 | akihega@omtribe.org
Pawnee Nation of Oklahoma | Amanda Farren, ICWA Director | P.O. Box 470, Pawnee, OK 74058 | (918) 762-3261 | (918) 762-6449 | afarren@pawneenation.org
Ponca Tribe of Indians of Oklahoma | Stephanie Ruminer, ICW Director | 20 White Eagle Drive, Ponca City, OK 74601 | (580) 463-0133 | (580) 763-0134 | ptoicw@gmail.com
Prairie Band Potawatomi Nation | Julia Alfers, ICW Director | 16281 Q. Road, Mayetta, KS 66509 | (785) 966-8325 | (785) 966-290 |
Sac and Fox Nation of Missouri in Kansas and Nebraska | Chasity Davis, ICW Director | 305 N Main Street, Reserve, KS 66434 | (785) 742-4708 | (785) 288-1163 | cdavis@sacandfoxcasino.com
Sac and Fox Nation, Oklahoma | Karen Hamilton, ICW Director | 215 North Harrison, Box 246, Shawnee, OK 74801 | (918) 968-3526 | (405) 395-0858 | karen.hamilton@sacandfoxnation-nsn.gov
Tonkawa Tribe of Indians of Oklahoma | Christi Gonzalez, ICW Director | P.O. Box 70, Tonkawa, OK 74653 | (580) 628-7025 | (580) 628-7025 | cgonzalez@tonkwatribe.com
Wichita and Affiliated Tribes (Wichita, Keechi, Waco & Tawakonie), Oklahoma | Joan Williams, ICW Director | P.O. Box 729, Anadarko, OK 73005 | (405) 247-8627 | (405) 247-3256 | joan.williams@wichitatribe.com

11. Southwest Region

Southwest Regional Director, 1001 Indian School Road NW, Albuquerque, NM 87104; Telephone Number: (505) 563-3103; Fax Number: (505) 563-3101.

Tribe | ICWA POC | Mailing address | Telephone No. | Fax No. | Email address
Jicarilla Apache Nation, New Mexico | Gina Keeswood, ICWA Specialist | P.O. Box 120, Dulce, NM 87528 | (575) 759-1712 | (575) 759-3757 | gkeeswood@jbhd.org
Mescalero Apache Tribe of the Mescalero Reservation, New Mexico | Augusta Williams, ICWA Case Manager | 107 Sunset Loop, Box 228, Mescalero, NM 88340 | (575) 464-4334 | (575) 464-4331 | awilliams@mescaleroapachetribe.com
Ohkay Owingeh | Rochelle Thompson, ICWA Manager | P.O. Box 1187, 220 Popay Avenue, Ohkay Owingeh, NM 87566 | (575) 852-6108 | (505) 692-0333 | rochelle.thompson@ohkay.org
Pueblo of Acoma, New Mexico | Marsha Vallo, Child Welfare Specialist | P.O. Box 354, Acoma, NM 87034 | (505) 552-5162 | (505) 552-0903 | MLVallo@poamail.org
Pueblo of Cochiti, New Mexico | Tanya Devon Torres, ICWA Specialist | P.O. Box 70, Cochiti Pueblo, NM 87072 | (505) 465-3139 | (505) 465-3173 | tanya_torres@pueblodecochiti.org
Pueblo of Isleta, New Mexico | Jacqueline Yalch, Social Services Director | P.O. Box 1270, Isleta, NM 87022 | (505) 869-2772 | (505) 869-7575 | Jacqueline.Yalch@isletapueblo.com
Pueblo of Jemez, New Mexico | Annette Gachupin, Child Advocate | P.O. Box 340, Jemez Pueblo, NM 87024 | (575) 834-7117 | (575) 834-7103 | agachupin@jemezpueblo.us
Pueblo of Laguna, New Mexico | Tracy Zamora, Social Service Program Manager | Social Services Department, P.O. Box 194, Laguna, NM 87026 | (505) 552-6513 | (505) 552-6387 | tzamora@pol-nsn.gov
Pueblo of Nambe, New Mexico | Julie Bird, ICWA Manager | 15A NP 102 West, Santa Fe, NM 87506 | (505) 445-4446 | (505) 455-4449 | ICWA@nambepueblo.org
Pueblo of Picuris, New Mexico | Darcy Focke, ICWA Specialist | P.O. Box 127, Penasco, NM 87553 | (575) 587-2519 | (575) 587-1003 | icwa@picurispueblo.org
Pueblo of Pojoaque, New Mexico | Arthur Malone, Case Manager/ICWA Specialist | 58 Cities of Gold Road, Suite 5, Santa Fe, NM 87506 | (505) 455-0238 | (505) 455-2363 | amalone@pojoaque.org
Pueblo of San Felipe, New Mexico | Darlene J. Valencia, Family Services Director/ICWA Representative | P.O. Box 4339, San Felipe Pueblo, NM 87001 | (505) 771-9900 | (505) 771-9978 | dvalencia@sfpueblo.com
Pueblo of San Ildefonso, New Mexico | PrettyWater Duran, ICWA Manager/Family Advocate | 02 Tunyo Po, Santa Fe, NM 87506 | (505) 455-4164 | (505) 455-7351 | icwamanager@sanipueblo.org
Pueblo of Sandia, New Mexico | Bree Kerr, Tribal Court Administrator | 481 Sandia Loop, Bernalillo, NM 87004 | (505) 771-5005 | (505) 867-7099 | akerr@sandiapueblo.nsn.us
Pueblo of Santa Ana, New Mexico | Edward Ackron, LMSW, Social Services Director | 02 Dove Road, Santa Ana Pueblo, NM 87004 | (505) 771-6765 | (505) 771-6537 | edward.Ackron@santaana-nsn.gov
Pueblo of Santa Clara, New Mexico | Dennis Silva, Director of Social Services | P.O. Box 580, Espanola, NM 87532 | (505) 753-0419 | (505) 753-0420 | dsilva@santaclarapueblo.org
Pueblo of Taos, New Mexico | Ezra Bayles, Director | P.O. Box 1846, Taos, NM 87571 | (575) 758-7824 | (575) 758-3346 | ebayles@taospueblo.com
Pueblo of Tesuque, New Mexico | Donna Quintana, ICWA Coordinator | Box 360, T Route 42, Santa Fe, NM 87506 | (505) 469-0173 | (505) 820-7780 | donna.quintana@pueblooftesuque.org
Pueblo of Zia, New Mexico | Wiyanna Chavez, Social Services Director | 135 Capital Square Drive, Zia Pueblo, NM 87053 | (505) 401-8142 | (505) 867-3308 | wiyanna.chavez@ziapueblo.org
Santo Domingo Pueblo | Virginia Tenorio & Doris Mina, Family Services Director & ICWA Representative | P.O. Box 129, Santo Domingo, NM 87052 | (505) 465-0630 | (505) 465-2554 | virgina.tenorio@kewa-nsn.us
Southern Ute Indian Tribe of the Southern Ute Reservation, Colorado | Julianne Begay, Social Services Attorney | MS 53 P.O. Box 737, Ignacio, CO 81137 | (970) 563-0100 | (970) 563-4854 | jbegay@southemute-nsn.gov
Ute Mountain Ute Tribe | Tywana Billie Lopez, UMU Social Services Director | P.O. Box 309, Towaoc, CO 81334 | (970) 564-5307 |  | tbillie@utemountain.org
Ysleta del Sur Pueblo | Leah Lopez, LMSW, Social Services Coordinator | 9314 Juanchido Ln., El Paso, TX 79907 | (915) 860-6170 | (915) 242-6556 | lopezl@ydsp-nsn.gov
Zuni Tribe of the Zuni Reservation, New Mexico | Ron Reid, Social Services Director | P.O. Box 339, Zuni, NM 87327 | (505) 782-7166 | (505) 782-7221 | ron.reid@ashiwi.org

12. Western

Western Regional Director, 2600 North Central Avenue, 4th Floor Mailroom, Phoenix, AZ 85004; Telephone: (602) 379-6600; Fax Number: (602) 379-4413.

Tribe | ICWA POC | Mailing address | Telephone No. | Fax No. | Email address
Ak-Chin Indian Community | Dorissa Garcia, Enrollment Coordinator | 42507 West Peters & Nall Road, Maricopa, AZ 85138 | (520) 568-1074 | (520) 568-1079 | dgarcia@ak-chin.nsn.us
Chemehuevi Indian Tribe of the Chemehuevi Reservation, California | Sierra Pencille, Temp, Chair of Tribe | P.O. Box 1976, Havasu Lake, CA 92363 | (760) 858-4291 | (760) 858-5400 | chairman@cit-nsn.gov
Cocopah Tribe of Arizona | Rafael D. Morales, Jr., ICWA Worker | 14515 South Veterans Drive, Somerton, AZ 85350 | (928) 627-3729 | (928) 627-3316 | moralesr@cocopah.com
Colorado River Indian Tribes of the Colorado River Indian Reservation, Arizona and California | Rebecca Loudbear, Attorney General | 26600 Mohave Road, Parker, AZ 85344 | (928) 669-1271 | (928) 669-5675 | rloudbear@critdoj.com
Confederated Tribes of the Goshute Reservation, Nevada and Utah | Jeanine Hooper, Social Services/ICWA Director | HC61 Box 6104, Ibapah, UT 84034 | (833) 228-6509 | (435) 234-1219 | jeanine.hooper@ctgr.us
Duckwater Shoshone Tribe of the Duckwater Reservation, Nevada | Debra O'Neil, Social Services Director | P.O. Box 140087, Duckwater, NV 89314 | (775) 863-0222 | (775) 863-0142 | debbie.oneil@ihs.gov
Ely Shoshone Tribe of Nevada | Georgia Valdez, Social Services Worker | 250B Heritage Drive, Ely, NV 89301 | (775) 289-4133 | (775) 289-3237 | dorda123@yahoo.com
Fort McDermitt Paiute and Shoshone Tribes of the Fort McDermitt Indian Reservation, Nevada and Oregon | Elena Dave, ICWA Advocate | 111 North Road, P.O. Box 457, McDermitt, NV 89421 | (775) 532-8259 | (775) 532-8060 | alenadave83@gmail.com
Fort McDowell Yavapai Nation, Arizona | Janel Shepherd, CPS/ICWA Coordinator | P.O. Box 17779, Fountain Hills, AZ 85269 | (480) 789-7990 | (480) 837-4809 | jshepherd@fmyn.org
Fort Mojave Indian Tribe of Arizona, California & Nevada | Melvin Lewis Sr., Social Services Department Director | 500 Merriman Avenue, Needles, CA 92363 | (928) 346-1550 | (928) 346-1552 | ssdir@ftmojave.com
Gila River Indian Community of the Gila River Indian Reservation, Arizona | Antoinette Enos, ICWA Case Manager | P.O. Box 427, Sacaton, AZ 85147 | (520) 562-3396 | (520) 562-3633 | antoinette.enos@gric.nsn.gov
Havasupai Tribe of the Havasupai Reservation, Arizona | Rita Uqualla, ICWA Coordinator | P.O. Box 10, Supai, AZ 86435 | (928) 433-8153 | (928) 433-8119 | ruqualla@yahoo.com
Hopi Tribe of Arizona | Lorene Vicente, ICWA Coordinator | P.O. Box 123, Kykotsmovi, AZ 86039 | (928) 734-3392 | (928) 734-1158 | LVicente@hopi.nsn.us
Hualapai Indian Tribe of the Hualapai Indian Reservation, Arizona | Idella Keluche, ICWA Worker | P.O. Box 480, Peach Springs, AZ 86434 | (928) 769-2269 | (928) 769-2659 | ikeluche@hualapai-nsn.gov
Kaibab Band of Paiute Indians of the Kaibab Indian Reservation, Arizona | Jennie K. Kalauli, Social Services Director | HC 65 Box 2, Fredonia, AZ 86022 | (928) 643-8320 | (888) 422-4037 | jkalauli@kaibabpaiute-nsn.gov
Las Vegas Tribe of Paiute Indians of the Las Vegas Indian Colony, Nevada | Fabian Solis, Health & Human Service Director | 1257 Paiute Circle, Las Vegas, NV 89106 | (702) 382-0784 | (702) 384-5272 | fsolis@lvpaiute.com
Lovelock Paiute Tribe of the Lovelock Indian Colony, Nevada | Maribel Morales, ICWA—GA Case Worker | 201 Bowean Street, Lovelock, NV 89419 | (775) 217-0461 | (775) 273-3802 | icwa@lovelocktribe.com
Moapa Band of Paiute Indians of the Moapa River Indian Reservation, Nevada | Debrah Rocco, Social Services Director | P.O. BOX 308, Moapa, NV 89025 | (702) 865-2708 | (702) 864-0408 | socialservices@moapabandofpaiutes.org
Paiute Indian Tribe of Utah (Cedar Band of Paiutes, Kanosh Band of Paiutes, Koosharem Band of Paiutes, Indian Peaks Band of Paiutes, and Shivwits Band of Paiutes) | Tyler Goddard, Health Director | 440 North Paiute Drive, Cedar City, UT 84721 | (435) 586-1112 | (435) 238-4262 | tgoddard@fourpointshealth.org
Paiute-Shoshone Tribe of the Fallon Reservation and Colony, Nevada | Jennifer Pishion, ICWA Representative | 1007 Rio Vista Drive, Fallon, NV 89406 | (775) 423-1215 | (775) 423-8960 | yfsmanager@fpst.org
Pascua Yaqui Tribe of Arizona | Tara Hubbard, ICWA Supervising Attorney | Office of the Attorney General, 7777 S Camino Huivism—Bldg. C, Tucson, AZ 85757 | (480) 755-2506 | (520) 883-5084 | tara.hubbard@pascuayaqui-nsn.gov
Pyramid Lake Paiute Tribe of the Pyramid Lake Reservation, Nevada | Nathan Dunn, Caseworker | P.O. Box 256, Nixon, NV 89424 | (775) 574-1047 | (775) 574-1052 | caseworker@plpt.nsn.us
Quechan Tribe of the Fort Yuma Indian Reservation, California & Arizona | Rena Escalanti-GoForth, ICWA Specialist | P.O. Box 1899, Yuma, AZ 85366 | (760) 572-0201 | (760) 572-2099 | ICWAspecialist@quechantribe.com
Reno-Sparks Indian Colony, Nevada | Carrie Brown, Human Services Manager | 405 Golden Lane, Reno, NV 89502 | (775) 329-5071 | (775) 785-8758 | cbrown@rsic.org
Salt River Pima-Maricopa Indian Community of the Salt River Reservation, Arizona | Allison Miller, ICWA Manager | SRPMIC Social Services/ICWA Unit, 10,005 East Osborn Road, Scottsdale, AZ 85256 | (480) 362-7533 | (480) 362-5574 | Allison.Miller@srpmic-nsn.gov
San Carlos Apache Tribe of the San Carlos Reservation, Arizona | Aaron Begay, ICWA Coordinator | P.O. Box 0, San Carlos, AZ 85550 | (928) 475-2313 | (928) 475-2342 | abegay09@tss.scat-nsn.gov
San Juan Southern Paiute Tribe of Arizona | Mary Lou Boone, Enrollment Officer | 505 South Main Street, Suite 101, P.O. Box 2950, Tuba City, AZ 86045 | (928) 212-9794 | (928) 233-8948 | m.boone@sanjuanpaiute-nsn.gov
Shoshone-Paiute Tribes of the Duck Valley Reservation, Nevada | Tamara Ashley, Social Worker | P.O. Box 219, Owyhee, NV 89832 | (775) 757-2921 | (775) 757-2910 | ashley.tamara@shopai.org
Skull Valley Band of Goshute Indians of Utah | Candace Bear, Chairperson | 407 Skull Valley Road, Skull Valley, UT 84029 | (435) 830-4526
Summit Lake Paiute Tribe of Nevada | Randi Lone Eagle, Chairwoman | 2255 Green Vista Drive, Suite 402, Sparks, NV 89431 | (775) 827-9670 | (775) 827-9678 | randi.loneeagle@summitlaketribe.org
Te-Moak Tribe of Western Shoshone Indians of Nevada (Four constituent bands: Battle Mountain Band; Elko Band; South Fork Band; and Wells Band) | Donna Hill, Acting Social Services Director/ICWA Coordinator, Battle Mountain Band | 37 Mountain View Drive, Battle Mountain, NV 89820 | (775) 635-2004 | (775) 635-8528 | bmbssd2018@outlook.com
| Amanda Gettings, Social Services Director/ICWA Coordinator, South Fork Band | 21 Lee Unit #13, Spring Creek, NV 89815 | (775) 744-4273 | (775) 744-4523 | sftribalservices@gmail.com
| Ortencia M. Puhuyaoma, Acting Social Service Director, Elko Band | 1745 Silver Eagle Drive, Elko Band Council SS/ICWA, Elko, NV 89801 | (775) 738-9310 | (775) 778-3397 | icwa@elkoband.org
| Alicia Aguilar, Administrator, Wells Band | P.O. Box 809, Wells, NV 89835 | (775) 260-2610 | (775) 752-2179 | amber@gmail.com
Tohono O'odham Nation of Arizona | Joshua Rees, Acting Attorney General | P.O. Box 830, Sells, AZ 85634 | (520) 383-3410 | (520) 383-2689 | joshua.rees@tonation-nsn.gov
Tonto Apache Tribe of Arizona | Christine Zuber, Tribal Council Secretary/Social Services Director | Tonto Apache Reservation #30, Payson, AZ 85541 | (928) 474-5000 | (928) 474-9125 | czuber@tontoapache.org
Ute Indian Tribe of the Uintah & Ouray, Reservation, Utah | Ramalda Guzman, Assistant Director | P.O. Box 190, Fort Duchesne, UT 84052 | (435) 725-4054 | (435) 722-5072 | ramadlag@utetribe.com
Walker River Paiute Tribe of the Walker River Reservation, Nevada | Miranda J. Quintero, Social Services Director | Social Services Department, P.O. Box 146, Schurz, NV 89427 | (775) 773-2058 | (775) 773-2096 | mquintero@wrpt.org
Washoe Tribe of Nevada & California (Carson Colony, Dresslerville Colony, Woodfords Community, Stewart Community, & Washoe Ranches) | Stacy L. Stahl, Social Services Director | 919 US Highway 395 North, Gardnerville, NV 89410 | (775) 265-8691 | (775) 265-4593 | Stacy.Stahl@washoetribe.us
White Mountain Apache Tribe of the Fort Apache Reservation, Arizona | Cora Hinton, ICWA Representative/CPS Supervisor | P.O. Box 1870, Whiteriver, AZ 85941 | (928) 338-4164 | (928) 338-1469 | chinton@wmat.us
Winnemucca Indian Colony of Nevada | Judy Rojo, Tribal Chairperson | 433 West Plumb Lane, Reno, NV 89509 | (775) 329-5800 | (775) 329-5819 | admin.wic@winnemuccaindiancolony.org
Yavapai-Apache Nation of the Camp Verde Indian Reservation, Arizona | Melissa Stevens, ICWA Coordinator | 2400 West Datsi Street, Camp Verde, AZ 86322 | (928) 649-7108 | (928) 567-6832 | mstevens@yan-tribe.org
Yavapai-Prescott Indian Tribe | Darcy Razo, Family Support Supervisor | 530 East Merritt, Prescott, AZ 86301 | (928) 515-7352 | (928) 515-7352 | drazo@ypit.com
Yerington Paiute Tribe of the Yerington Colony & Campbell Ranch, Nevada | Nathaniel Landa, Human Services Director | 171 Campbell Lane, Yerington, NV 89447 | (775) 783-0200 | (775) 463-5929 | nlanda@ypt-nsn.gov
Yomba Shoshone Tribe of the Yomba Reservation, Nevada | Belinda Hooper, Social Services Eligibility Worker | HC 61 Box 6275 (Reese River Valley), Austin, NV 89310 | (775) 964-1021 | (775) 993-2483 | socialservices@yombatribe.org

Bryan Newland,
Assistant Secretary—Indian Affairs.

[FR Doc. 2022-08077 Filed 4-14-22; 8:45 am]

BILLING CODE 4337-15-P